DEPARTMENT OF THE TREASURY

Community Development Financial Institutions Fund

Notice of Funds Availability Inviting Applications for Financial Assistance Awards or Technical Assistance Grants Under the Community Development Financial Institutions Program Fiscal Year 2020 Funding Round

Funding Opportunity Title: Notice of Funds Availability (NOFA) inviting Applications for Financial Assistance (FA) awards or Technical Assistance (TA) grants under the Community Development Financial Institutions Program (CDFI Program) fiscal year (FY) 2020 Funding Round.

Announcement Type: Announcement of funding opportunity.

Funding Opportunity Number: CDFI-2020-FATA.

Catalog of Federal Domestic Assistance (CFDA) Number: 21.020.

Dates:

Table 1—FY 2020 CDFI Program Funding Round Critical Deadlines for Applicants
Description | Deadline | Time (Eastern Time—ET) | Submission method
Last day to create an Awards Management Information Systems (AMIS) Account (all Applicants) | March 23, 2020 | 11:59 p.m. ET | AMIS.
Last day to enter EIN and DUNS numbers in AMIS (all Applicants) | March 23, 2020 | 11:59 p.m. ET | AMIS.
Last day to submit SF-424 (Application for Federal Assistance) | March 23, 2020 | 11:59 p.m. ET | Electronically via Grants.gov.
Last day to contact CDFI Program staff | April 17, 2020 | 5:00 p.m. ET | Service Request via AMIS Or CDFI Fund Helpdesk: 202-653-0421.
Last day to contact AMIS-IT Help Desk (regarding AMIS technical problems only) | April 21, 2020 | 5:00 p.m. ET | Service Request via AMIS Or 202-653-0422 Or AMIS@cdfi.treas.gov.
Last day to submit CDFI Program Application for Financial Assistance (FA) or Technical Assistance (TA) | April 21, 2020 | 11:59 p.m. ET | AMIS.

Executive Summary: Through the CDFI Program, the CDFI Fund provides (i) FA awards of up to $1 million to Certified Community Development Financial Institutions (CDFIs) to build their financial capacity to lend to Eligible Markets and/or their Target Markets, and (ii) TA grants of up to $125,000 to build Certified, and Emerging CDFIs' organizational capacity to serve Eligible Markets and/or their Target Markets. All awards provided through this NOFA are subject to funding availability.

I. Program Description

A. History: The CDFI Fund was established by the Riegle Community Development Banking and Financial Institutions Act of 1994 to promote economic revitalization and community development through investment in and assistance to CDFIs. The CDFI Program made its first awards in 1996 and the Native American CDFI Assistance (NACA) Program made its first awards in 2002.

B. Priorities: Through the CDFI Program's FA awards and TA grants, the CDFI Fund invests in and builds the capacity of for-profit and non-profit community based lending organizations known as CDFIs. These organizations, certified as CDFIs by the CDFI Fund, serve rural and urban low-income people, and communities across the nation that lack adequate access to affordable financial products and services.

C. Authorizing Statutes and Regulations: The CDFI Program is authorized by the Riegle Community Development Banking and Financial Institutions Act of 1994 (Pub. L. 103-325, 12 U.S.C. 4701 et seq.) (Authorizing Statute). The regulations governing the CDFI Program are found at 12 CFR parts 1805 and 1815 (the Regulations) and set forth evaluation criteria and other program requirements. The CDFI Fund encourages Applicants to review the Regulations; this NOFA; the CDFI Program Application for Financial Assistance or Technical Assistance (the Application); all related materials and guidance documents found on the CDFI Fund's website (Application Materials); and the Uniform Administrative Requirements, Cost Principles, and Audit Requirements for Federal Awards (2 CFR part 1000), which is the Department of the Treasury's codification of the Office of Management and Budget (OMB) government-wide framework for grants management at 2 CFR part 200 (the Uniform Requirements) for a complete understanding of the program. Capitalized terms in this NOFA are defined in the Authorizing Statute, the Regulations, this NOFA, the Application, Application Materials, or the Uniform Requirements. Details regarding Application content requirements are found in the Application and Application Materials.

D. Uniform Administrative Requirements, Cost Principles, and Audit Requirements for Federal Awards (2 CFR part 1000): The Uniform Requirements codify financial, administrative, procurement, and program management standards that Federal award agencies must follow. When evaluating Applications, awarding agencies must evaluate the risks to the program posed by each Applicant, and each Applicant's merits and eligibility. These requirements are designed to ensure that Applicants for Federal assistance receive a fair and consistent review prior to an award decision. This review will assess items such as the Applicant's financial stability, quality of management systems, the soundness of its business plan, history of performance, ability to achieve measurable impacts through its products and services, and audit findings. In addition, the Uniform Requirements include guidance on audit requirements and other award compliance requirements for Recipients.

E. Funding limitations: The CDFI Fund reserves the right to fund, in whole or in part, any, all, or none of the Applications submitted in response to this NOFA.

II. Federal Award Information

A. Funding Availability:

1. FY 2020 Funding Round: The CDFI Fund expects to award, through this NOFA, approximately $184 million as indicated in the following table:

Table 2—FY 2020 Funding Round Anticipated Category Amounts
Funding categories (See definition in Table 7 for TA or Table 8 for FA) | Estimated total amount to be awarded (millions) | Award amount: Minimum | Award amount: Maximum | Estimated number of awards for FY 2020 | Estimate average amount awarded in FY 2020 | Average amount awarded in FY 2019
Base-FA: Category I/Small and/or Emerging CDFI Assistance (SECA) | $30 | $350,000 | $700,000 | 75 | $400,000 | $275,000
Base-FA: Category II/Core | 105.9 | 500,000 | 1,000,000 | 175 | 605,000 | 590,000
Persistent Poverty Counties—Financial Assistance (PPC-FA) | 18.1 | 100,000 | 300,000 | 120 | 150,000 | 146,000
Disability Funds—Financial Assistance (DF-FA) * | 3 | 100,000 | 500,000 | 16 | 187,000 | 187,000
TA | 5 | 10,000 | 125,000 | 42 | 114,000 | 121,000
Healthy Food Financing Initiative—Financial Assistance (HFFI-FA) * | 22 | 500,000 | 5,000,000 | 14 | 1,600,000 | 1,571,000
Total | 184 |  |  | 365 |  |
* DF-FA and HFFI-FA appropriation will be allocated in one competitive round between the NACA and CDFI Program NOFAs.

The CDFI Fund reserves the right to award more or less than the amounts cited above in each category, based upon available funding and other factors, as appropriate.

2. Funding Availability for the FY 2020 Funding Round: As of the date of this NOFA, the CDFI Fund is operating under the Consolidated Appropriations Act, 2020 (Pub. L. 116-93).

3. Anticipated Start Date and Period of Performance: The Period of Performance for TA grants begins with the date of the award announcement and includes either (i) an Emerging CDFI Recipient's three full consecutive fiscal years after the date of the award announcement, or (ii) a Certified CDFI Recipient's two full consecutive fiscal years after the date of the award announcement, during which the Recipient must meet the Performance Goals and Measures (PG&Ms) set forth in the Assistance Agreement. The Period of Performance for FA awards begins with the date of the award announcement and includes a Recipient's three full consecutive fiscal years after the date of the award announcement, during which time the Recipient must meet the PG&Ms set forth in the Assistance Agreement.

B. Types of Awards: Through the CDFI Program, the CDFI Fund provides two types of awards: Financial Assistance (FA) and Technical Assistance (TA) awards. An Applicant may submit an Application for a TA grant or an FA award under the CDFI Program, but not both. FA Awards include the Base Financial Assistance (Base-FA) award and the following awards that are provided as a supplement to the Base-FA award: Healthy Food Financing Initiative-Financial Assistance (HFFI-FA), Persistent Poverty Counties-Financial Assistance (PPC-FA), and Disability Funds-Financial Assistance (DF-FA). The HFFI-FA, PPC-FA, and DF-FA Applications will be evaluated independently from the Base-FA Application, and will not affect the Base-FA Application evaluation or Base-FA award amount.

However, Applicants that qualify for the NACA Program may submit two Applications: One Application—either for a TA grant or an FA award, but not both—through the CDFI Program, and one Application—either for a TA grant or an FA award, but not both—through the NACA Program. NACA qualified Applicants that choose to apply for awards through both the CDFI Program and the NACA Program may either apply for the same type of award under each Program or for a different type of award under each Program. NACA qualified FA Applicants that choose to apply for an FA award under both the NACA Program and CDFI Program and are selected for an award under both Programs will be provided the FA award under the CDFI Program. NACA qualified TA Applicants that choose to apply for a TA award under both the NACA Program and CDFI Program and are selected for an award under both Programs will be provided the TA award under the NACA Program. NACA qualified Applicants that choose to apply for a TA award and a FA award under separate programs will be provided the larger of the two awards. NACA Applicants cannot receive an award under both Programs within the same funding round.

Category II (Core) FA Applicants applying for Base-FA, PPC-FA, and/or DF-FA must provide evidence of acceptable matching funds. The matching funds requirement for HFFI-FA and SECA FA Applicants is waived in the enacted FY 2020 Consolidated Appropriations Act. Therefore, HFFI-FA and SECA FA Applicants are not required to submit matching funds for their award requests. TA Applicants are not required to provide matching funds.

1. Base-FA Awards: Base-FA awards can be in the form of loans, grants, Equity Investments, deposits and credit union shares. The form of the Base-FA award is based on the form of the matching funds that the Applicant includes in its Application, unless Congress waived the matching funds requirement. The matching funds requirement was waived for SECA FA Applicants and therefore the Base-FA award will be in the form of a grant for SECA FA Applicants. Matching funds are required for Category II (Core) Applicants applying for Base-FA awards, and must be from non-Federal sources and cannot have been used as matching funds for any other Federal award. The CDFI Fund reserves the right, in its sole discretion, to provide a Base-FA award in an amount other than that which the Applicant requests; however, the award amount will not exceed the Applicant's award request as stated in its Application.

2. Persistent Poverty Counties—Financial Assistance (PPC-FA) Awards: PPC-FA awards will be provided as a supplement to Base-FA awards; therefore, only those Applicants that are selected to receive a Base-FA award through the CDFI Program FY 2020 Funding Round will be eligible to receive a PPC-FA award. PPC-FA awards can be in the form of loans, grants, Equity Investment, deposits and credit union shares. The form of the PPC-FA award is based on the form of the matching funds that the Applicant includes in its Application, unless Congress waived the matching funds requirement. The matching funds requirement was waived for SECA FA Applicants and therefore the PPC-FA award will be in the form of a grant for SECA FA Applicants. Matching funds are required for Category II (Core) Applicants applying for PPC-FA awards, and must be from non-Federal sources, and cannot have been used as matching funds for any other Federal award. The CDFI Fund reserves the right, in its sole discretion, to provide a PPC-FA award in an amount other than that which the Applicant requests; however, the award amount will not exceed the Applicant's award request as stated in its Application.

3. Disability Funds—Financial Assistance (DF-FA) Awards: DF-FA awards will be provided as a supplement to Base-FA awards; therefore, only those Applicants that have been selected to receive a Base-FA award through the CDFI Program FY 2020 Funding Round will be eligible to receive a DF-FA award. DF-FA awards can be in the form of loans, grants, Equity Investments, deposits and credit union shares. The form of the DF-FA award is based on the form of the matching funds that the Applicant includes in its Application, unless Congress waived the matching funds requirement. The matching funds requirement was waived for SECA FA Applicants and therefore the DF-FA award will be in the form of a grant for SECA FA Applicants. Matching funds are required for Category II (Core) Applicants applying for DF-FA awards, and must be from non-Federal sources, and cannot have been used as matching funds for any other Federal award. The CDFI Fund reserves the right, in its sole discretion, to provide a DF-FA award in an amount other than that which the Applicant requests; however, the award amount will not exceed the Applicant's award request as stated in its Application.

4. Healthy Food Financing Initiative—Financial Assistance (HFFI-FA) Awards: HFFI-FA awards will be provided as a supplement to Base-FA awards; therefore, only those Applicants that have been selected to receive a Base-FA award through the CDFI Program FY 2020 Funding Round will be eligible to receive an HFFI-FA award. HFFI-FA awards can be in the form of loans, grants, Equity Investments, deposits and credit union shares. The form of the HFFI-FA award is based on the form of the matching funds that the Applicant includes in its Application, unless Congress waived the matching funds requirement. The matching funds requirement was waived for HFFI-FA Applicants and therefore the HFFI-FA awards will be in the form of a grant. The CDFI Fund reserves the right, in its sole discretion, to provide an HFFI-FA award in an amount other than that which the Applicant requests; however, the award amount will not exceed the Applicant's award request as stated in its Application.

5. TA Grants: TA is provided in the form of grants. The CDFI Fund reserves the right, in its sole discretion, to provide a TA grant in an amount other than that which the Applicant requests; however, the TA grant amount will not exceed the Applicant's request as stated in its Application.

C. Eligible Activities:

1. FA Awards: Base-FA, PPC-FA, DF-FA, and HFFI-FA award funds may be expended for activities serving Commercial Real Estate, Small Business, Microenterprise, Community Facilities, Consumer Financial Products, Consumer Financial Services, Commercial Financial Products, Commercial Financial Services, Affordable Housing, Intermediary Lending to Non-Profits and CDFIs, and other lines of business as deemed appropriate by the CDFI Fund in the following five categories: (i) Financial Products; (ii) Financial Services; (iii) Loan Loss Reserves; (iv) Development Services; and (v) Capital Reserves. The FA budget is the amount of the award and must be expended in the five eligible activity categories prior to the end of the Period of Performance. Base-FA Recipients must meet PG&Ms, which will be derived from projections and attestations provided by the Applicant in its Application, to achieve one or more of the following FA Objectives: (i) Increase Volume of Financial Products in an Eligible Market(s) and/or in the Applicant's approved Target Market and/or Increase Volume of Financial Services in an Eligible Market(s) and/or in the Applicant's approved Target Market; (ii) Serve Eligible Market(s) or the Applicant's approved Target Market in New Geographic Area or Areas; (iii) Provide New Financial Products in an Eligible Market(s) and/or in the Applicant's approved Target Market, Provide New Financial Services in an Eligible Market(s) and/or in the Applicant's approved Target Market, or Provide New Development Services in an Eligible Market(s) and/or in the Applicant's approved Target Market; and (iv) Serve New Targeted Population or Populations. FA awards may only be used for Direct Costs associated with an eligible activity; no indirect expenses are allowed. Up to 15% of the FA award may be used for Direct Administrative Expenses associated with an eligible FA activity. “Direct Administrative Expenses” shall mean Direct Costs, as described in section 2 CFR 200.413 of the Uniform Requirements, which are incurred by the Recipient to carry out the Financial Assistance. Direct Costs incurred to provide Development Services or Financial Services do not constitute Direct Administrative Expenses.

The Recipient must comply, as applicable, with the Buy American Act of 1933, 41 U.S.C. 8301-8303, with respect to any Direct Costs. For purposes of this NOFA, the five eligible activity categories are defined below:

¹ Regulated Institutions include Insured Credit Unions, Insured Depository Institutions, State-Insured Credit Unions and Bank Holding Companies.

Table 3—Base-FA, PPC-FA, DF-FA, and HFFI-FA Eligible Activity Categories
FA eligible activity | FA eligible activity definition * | Eligible CDFI institution types
i. Financial Products | FA expended as loans, Equity Investments and similar financing activities (as determined by the CDFI Fund) including the purchase of loans originated by certified CDFIs and the provision of loan guarantees. In the case of CDFI Intermediaries, Financial Products may also include loans to CDFIs and/or emerging CDFIs, and deposits in Insured Credit Union CDFIs, emerging Insured Credit Union CDFIs, and/or State-Insured Credit Union CDFIs | All.
| For HFFI-FA, however, the purchase of loans originated by certified CDFIs, loan refinancing, or any type of financing for prepared food outlets are not eligible activities
ii. Financial Services | FA expended for providing checking, savings accounts, check cashing, money orders, certified checks, automated teller machines, deposit taking, safe deposit box services, and other similar services | Regulated Institutions ¹ only.
|  | Not applicable for HFFI-FA Recipients.
iii. Loan Loss Reserves | FA set aside in the form of cash reserves, or through accounting-based accrual reserves, to cover losses on loans, accounts, and notes receivable or for related purposes that the CDFI Fund deems appropriate | All.
iv. Development Services | FA expended for activities undertaken by a CDFI, its Affiliate or contractor that (i) promote community development and (ii) prepare or assist current or potential borrowers or investees to use the CDFI's Financial Products or Financial Services. For example, such activities include financial or credit counseling; homeownership counseling; business planning; and management assistance | All.
v. Capital Reserves | FA set aside as reserves to support the Applicant's ability to leverage other capital, for such purposes as increasing its net assets or providing financing, or for related purposes as the CDFI Fund deems appropriate | Regulated Institutions only. Not applicable for DF-FA.
* All FA eligible activities must be in an Eligible Market or the Applicant's approved Target Market. Eligible Market is defined as (i) a geographic area meeting the requirements set forth in 12 CFR 1805.201(b)(3)(ii), or (ii) individuals that are Low-Income, African American, Hispanic, Native American, Native Hawaiians residing in Hawaii, Alaska Natives residing in Alaska, or Other Pacific Islanders residing in American Samoa, Guam or the Northern Mariana Islands.

2. DF-FA Award: DF-FA award funds may only be expended for eligible FA activities (referenced in Table 3) to directly or indirectly benefit individuals with disabilities. The DF-FA Recipient must close Financial Products for the primary purpose of directly or indirectly benefiting people with disabilities, where the majority of the DF-FA supported loans or investments benefit individuals with disabilities, in an amount equal to or greater than 85% of the total DF-FA provided. Eligible DF-FA financing activities may include, among other activities, loans to develop or purchase affordable, accessible, and safe housing; loans to provide or facilitate employment opportunities; and loans to purchase assistive technology. For the purposes of DF-FA, a person with a Disability is a person who has a physical or mental impairment that substantially limits one or more major life activities, a person who has a history or record of such an impairment, or a person who is perceived by others as having such an impairment, as defined by the American Disabilities Act (ADA) at https://www.ada.gov/cguide.htm.

3. TA Grants: TA grant funds may be expended for the following eight eligible activity categories: (i) Compensation—Personal Services; (ii) Compensation—Fringe Benefits; (iii) Professional Service Costs; (iv) Travel Costs; (v) Training and Education Costs; (vi) Equipment; (vii) Supplies; and (viii) Incorporation Costs. The TA budget is the amount of the award and must be expended in the eight eligible activity categories before the end of the Period of Performance. None of the eligible activity categories will be authorized for indirect costs or an associated indirect cost rate. Any expenses that are prohibited by the Uniform Requirements are unallowable and are generally found in Subpart E-Cost Principles. The Recipient must comply, as applicable, with the Buy American Act of 1933, 41 U.S.C. 8301-8303, with respect to any Direct Costs. For purposes of this NOFA, the eight eligible activity categories are defined below:

Table 4—TA Eligible Activity Categories, Subject to the Applicable Provisions of the Uniform Requirements
(i) Compensation—Personal Services | TA paid to cover all remuneration, paid currently or accrued, for services of Applicant's employees rendered during the Period of Performance under the TA grant in accordance with section 200.430 of the Uniform Requirements.
| Any work performed directly but unrelated to the purposes of the TA grant may not be paid as Compensation through a TA grant. For example, the salaries for building maintenance would not carry out the purpose of a TA grant and would be deemed unallowable.
(ii) Compensation—fringe benefits | TA paid to cover allowances and services provided by the Applicant to its employees as compensation in addition to regular salaries and wages, in accordance with section 200.431 of the Uniform Requirements. Such expenditures are allowable as long as they are made under formally established and consistently applied organizational policies of the Applicant.
(iii) Professional service costs | TA used to pay for professional and consultant services (e.g., such as strategic and marketing plan development), rendered by persons who are members of a particular profession or possess a special skill (e.g. credit analysis, portfolio management), and who are not officers or employees of the Applicant, in accordance with section 200.459 of the Uniform Requirements. Payment for a consultant's services may not exceed the current maximum of the daily equivalent rate paid to an Executive Schedule Level IV Federal employee. Professional and consultant services must build the capacity of the CDFI. For example, professional services that provide direct development services to the customers does not build the capacity of the CDFI to provide those services and would not be eligible.
(iv) Travel costs | TA used to pay costs of transportation, lodging, subsistence, and related items incurred by the Applicant's personnel who are on travel status on business related to the TA award, in accordance with section 200.474 of the Uniform Requirements. Travel costs do not include costs incurred by the Applicant's consultants who are on travel status. Any payments for travel expenses incurred by the Applicant's personnel but unrelated to carrying out the purpose of the TA grant would be deemed unallowable. As such, documentation must be maintained that justifies the travel as necessary to the TA grant.
(v) Training and education costs | TA used to pay the cost of training and education provided by the Applicant for employees' development in accordance with section 200.472 of the Uniform Requirements. TA can only be used to pay for training costs incurred by the Applicant's employees. Training and education costs may not be incurred by the Applicant's consultants.
(vi) Equipment | TA used to pay for tangible personal property, having a useful life of more than one year and a per-unit acquisition cost of at least $5,000, in accordance with section 200.33 of the Uniform Requirements. For example, items such as office furnishings and information technology systems are allowable as Equipment costs. The Applicant must comply, as applicable, with the Buy American Act of 1933, 41 U.S.C. 8301-8303 with respect to the purchase of Equipment.
(vii) Supplies | TA used to pay for tangible personal property with a per unit acquisition cost of less than $5,000, in accordance with section 200.94 of the Uniform Requirements. For example, a desktop computer costing $1,000 is allowable as a Supply cost. The Applicant must comply, as applicable, with the Buy American Act of 1933, 41 U.S.C. 8301-8303 with respect to the purchase of Supplies.
(viii) Incorporation Costs (Sponsoring Entities only) | TA used to pay for incorporation fees in connection with the establishment or reorganization of an organization as a CDFI, in accordance with section 200.455 of the Uniform Requirements. Incorporation Costs are allowable for NACA Program Sponsoring Entity Applicants only.

4. HFFI-FA Award: HFFI-FA award funds may only be expended for eligible FA activities referenced in Table 3. The HFFI-FA investments must comply with the following guidelines:

a. Recipient must close Financial Products for Healthy Food Retail Outlets and Healthy Food Non-Retail Outlets in its approved Target Market in an amount equal to or greater than 100% of the total HFFI Financial Assistance provided. Eligible financing activities to Healthy Food Retail Outlets and Healthy Food Non-Retail Outlets require that the majority of the loan or investment be devoted to offering a range of Healthy Food choices, which may include, among other activities, investments supporting an existing retail store or wholesale operation upgrade to offer an expanded range of Healthy Food choices, or supporting a nonprofit organization that expands the availability of Healthy Foods in underserved areas.

b. Recipient must demonstrate that it has closed Financial Products to Healthy Food Retail Outlets located in Food Deserts in the Recipient's approved Target Market in an amount equal to 75% of the total HFFI Financial Assistance provided.

Definitions:

Healthy Foods. Healthy Foods include unprepared nutrient-dense foods and beverages as set forth in the USDA Dietary Guidelines for Americans 2015-2020 including whole fruits and vegetables, whole grains, fat free or low-fat dairy foods, lean meats and poultry (fresh, refrigerated, frozen or canned). Healthy Foods should have low or no added sugars, and be low-sodium, reduced sodium, or no-salt-added. (See USDA Dietary Guidelines: http://www.choosemyplate.gov/dietary-guidelines).

Healthy Food Retail Outlets. Commercial sellers of Healthy Foods including, but not limited to, grocery stores, mobile food retailers, farmers markets, retail cooperatives, corner stores, bodegas, stores that sell other food and non-food items along with a range of Healthy Foods.

Healthy Food Non-Retail Outlets. Wholesalers of Healthy Foods including, but not limited to, wholesale food outlets, wholesale cooperatives, or other non-retail food producers that supply for sale a range of Healthy Food options; entities that produce or distribute Healthy Foods for eventual retail sale, and entities that provide consumer education regarding the consumption of Healthy Foods.

Food Deserts. Distressed geographic areas where either a substantial number or share of residents has low access to a supermarket or large grocery store. For the purpose of satisfying this requirement, a Food Desert must either: (1) Be a census tract determined to be a Food Desert by the U.S. Department of Agriculture (USDA), in its USDA Food Access Research Atlas; (2) be a census tract adjacent to a census tract determined to be a Food Desert by the USDA, in its USDA Food Access Research Atlas; which has a median family income less than or equal to 120% of the applicable Area Median Family Income; or (3) be a Geographic Unit as defined in 12 CFR part 1805.201(b)(3)(ii)(B), which (i) individually meets at least one of the criteria in 12 CFR part 1805.201(b)(3)(ii)(D), and (ii) has been identified as having low access to a supermarket or grocery store through a methodology that has been adopted for use by another governmental or philanthropic healthy food initiative.

5. PPC-FA Award: PPC-FA award funds may only be expended for eligible FA activities referenced in Table 3. The PPC-FA Recipient must close Financial Products in PPC in an Eligible Market or in the Applicant's approved Target Market in an amount equal to or greater than 100% of the total PPC Financial Assistance provided. The specific counties that meet the criteria for “persistent poverty” can be found at: https://www.cdfifund.gov/Documents/PPC%20updated%20Feb.2020.xlsx.

III. Eligibility Information

A. Eligible Applicants: For the purposes of this NOFA, the following tables set forth the eligibility criteria to receive an award from the CDFI Fund, along with certain definitions of terms. There are four categories of Applicant eligibility criteria: (1) CDFI certification criteria (Table 5); (2) requirements that apply to all Applicants (Table 6); (3) requirements that apply to TA Applicants (Table 7); and (4) requirements that apply to FA Applicants (Table 8).

Table 5—CDFI Certification Criteria Definitions
Certified CDFI | • An entity that the CDFI Fund has officially notified that it meets all CDFI certification requirements.
Emerging CDFI (TA Applicants) | • A non-Certified entity that demonstrates to the CDFI Fund in its Application that it has an acceptable plan to meet CDFI certification requirements by the end of its Period of Performance, or another date that the CDFI Fund selects.
| • An Emerging CDFI that has prior award(s) must comply with CDFI certification PG&M(s) stated in its prior Assistance Agreement(s).
| • An Emerging CDFI selected to receive a TA grant will be required to become a Certified CDFI by a date specified in the Assistance Agreement.

Table 6—Eligibility Requirements for All Applicants
Applicant | • Only the entity that will carry out the proposed award activities may apply for an award (other than Bank Holding Companies—see below). Recipients may not create a new legal entity to carry out the proposed award activities.
| • The information in the Application should only reflect the activities of the Applicant, including the presentation of financial and portfolio information. Do not include financial or portfolio information from parent companies, Affiliates, or Subsidiaries in the Application unless it relates to the provision of Development Services.
| • An Applicant that applies on behalf of another organization will be rejected without further consideration, other than Bank Holding Companies (see below).
Application type and submission overview through Grants.gov and Awards Management Information System (AMIS) | • Applicants must submit the Required Application Documents listed in Table 10.
| • The CDFI Fund will only accept Applications that use the official application templates provided on the Grants.gov and AMIS websites. Applications submitted with alternative or altered templates will not be considered.
| • Applicants undergo a two-step process that requires the submission of Application documents by two separate deadlines in two different locations: (1) The SF-424 in Grants.gov and (2) all other Required Application Documents in AMIS.
| • Grants.gov and the SF-424:
| ○ Grants.gov: Applicants must submit the Office of Management and Budget (OMB) Standard Form (SF) OMB SF-424, Application for Federal Assistance.
| ○ All Applicants must register in the Grants.gov system to successfully submit an Application. The Grants.gov registration process can take 30 days or more to complete. The CDFI Fund strongly encourages Applicants to register as early as possible.
| ○ The CDFI Fund will not extend the SF-424 application deadline for any Applicant that started the Grants.gov registration process on, before, or after the date of the publication of this NOFA, but did not complete it by the deadline except in the case of a Federal government administrative or technological error that directly resulted in a late submission of the SF-424.
| ○ The SF-424 must be submitted in Grants.gov on or before the deadline listed in Table 1 and Table 12. Applicants are strongly encouraged to submit their SF-424 as early as possible in the Grants.gov portal.
| ○ The deadline for the Grants.gov submission is before the AMIS submission deadline.
| ○ The SF-424 must be submitted under the CDFI Program Funding Opportunity Number for the CDFI Program Application. CDFI Program Applicants should be careful to not select the NACA Program Funding Opportunity Number when submitting their SF-424 for the CDFI Program. CDFI Program Applicants that submit their SF-424 for the CDFI Program Application under the NACA Program Funding Opportunity Number will be deemed ineligible for the CDFI Program Application.
| ○ If the SF-424 is not accepted by Grants.gov by the deadline, the CDFI Fund will not review any material submitted in AMIS and the Application will be deemed ineligible.
| • AMIS and all other Required Application Documents listed in Table 10:
| ○ AMIS is an enterprise-wide information technology system. Applicants will use AMIS to submit and store organization and Application information with the CDFI Fund.
| ○ Applicants are only allowed one CDFI Program Application submission in AMIS.
| ○ Each Application in AMIS must be signed by an Authorized Representative.
| ○ Applicants must ensure that the Authorized Representative is an employee or officer of the Applicant, authorized to sign legal documents on behalf of the organization. Consultants working on behalf of the organization may not be designated as Authorized Representatives.
| ○ Only the Authorized Representative or Application Point of Contact, included in the Application, may submit the Application in AMIS.
| ○ All Required Application Documents must be submitted in AMIS on or before the deadline specified in Tables 1 and 12.
| ○ The CDFI Fund will not extend the deadline for any Applicant except in the case of a Federal government administrative or technological error that directly resulted in the late submission of the Application in AMIS.
Employer Identification Number (EIN) | • Applicants must have a unique EIN assigned by the Internal Revenue Service (IRS).
| • The CDFI Fund will reject an Application submitted with the EIN of a parent or Affiliate organization.
| • The EIN in the Applicant's AMIS account must match the EIN in the Applicant's Grants.gov and System for Award Management (SAM) accounts. The CDFI Fund will reject an Application if the EIN in the Applicant's AMIS account does not match the EIN in its Grants.gov and SAM accounts.
| • Applicants must enter their EIN into their AMIS profile on or before the deadline specified in Tables 1 and 12.
Dun & Bradstreet, (DUNS) number | • Pursuant to OMB guidance (68 FR 38402), an Applicant must apply using its unique DUNS number in Grants.gov.
| • The CDFI Fund will reject an Application submitted with the DUNS number of a parent or Affiliate organization.
| • The DUNS number in the Applicant's AMIS account must match the DUNS number in the Applicant's Grants.gov and SAM accounts. The CDFI Fund will reject an Application if the DUNS number in the Applicant's AMIS account does not match the DUNS number in its Grants.gov and SAM accounts.
| • Applicants must enter their DUNS number into their AMIS profile on or before the deadline specified in Tables 1 and 12.
System for Award Management (SAM) | • SAM is a web-based, government-wide application that collects, validates, stores, and disseminates business information about the federal government's trading partners in support of the contract awards, grants, and electronic payment processes.
| • Applicants must register in SAM as part of the Grants.gov registration process.
| • Applicants must have a DUNS number and an EIN number in order to register in SAM.
| • Applicants must be registered in SAM in order to submit an SF-424 in Grants.gov.
| • The CDFI Fund reserves the right to deem an Application ineligible if the Applicant's SAM account expires during the Application evaluation period, or is set to expire before September 30, 2020, and the Applicant does not re-activate, or renew, as applicable, the account within the deadlines that the CDFI Fund communicates to affected Applicants during the Application evaluation period.
AMIS Account | • Each Applicant must register as an organization in AMIS and submit all Required Application Documents listed in Table 10 through the AMIS portal.
| • The Application of any organization that does not properly register in AMIS by the deadline set forth in Table 1—FY 2020 CDFI Program Funding Round Critical Deadlines for Applicants—will be rejected without further consideration.
| • The Authorized Representative and/or Application Point of Contact must be included as “users” in the Applicant's AMIS account.
| • An Applicant that fails to properly register and update its AMIS account may miss important communication from the CDFI Fund and/or not be able to successfully submit an Application.
501 (c)(4) status | • Pursuant to 2 U.S.C. 1611, any 501(c)(4) organization that engages in lobbying activities is not eligible to receive a CDFI or NACA Program award.
Compliance with Nondiscrimination and Equal Opportunity Statutes, Regulations, and Executive Orders | • An Applicant may not be eligible to receive an award if proceedings have been instituted against it in, by, or before any court, governmental agency, or administrative body, and a final determination within the last three years indicates the Applicant has violated any of the following laws, including but not limited to: Title VI of the Civil Rights Act of 1964, as amended (42 U.S.C. 2000d); Section 504 of the Rehabilitation Act of 1973 (29 U.S.C. 794); the Age Discrimination Act of 1975, (42 U.S.C. 6101-6107), and Executive Order 13166, Improving Access to Services for Persons with Limited English Proficiency.
Bank Holding Company Applicant | • In the case where a CDFI Bank Holding Company Applicant intends to carry out the activities of an award through its Subsidiary CDFI Insured Depository Institution, the Application must be submitted by the CDFI Bank Holding Company and reflect the activities and financial performance of the Subsidiary CDFI Insured Depository Institution.
| • Authorized representatives of both the Bank Holding Company and the Subsidiary CDFI Insured Depository Institution must certify that the information included in the Application represents that of the Subsidiary CDFI Insured Depository Institution, and that the award funds will be used to support the Subsidiary CDFI Insured Depository Institution for the eligible activities outlined in the Application.
Use of award | • All awards made through this NOFA must be used to support the Applicant's activities in at least one of the FA or TA Eligible Activity Categories (see Section II. (C)).
| • With the exception of Bank Holding Company Applicants, awards may not be used to support the activities of, or otherwise be passed through, transferred, or co-awarded to, third-party entities, whether Affiliates, Subsidiaries, or others, unless done pursuant to a merger or acquisition or similar transaction, and with the CDFI Fund's prior written consent. The Recipient of any award made through this NOFA must comply, as applicable, with the Buy American Act of 1933, 41 U.S.C. 8301-8303, with respect to any Direct Costs.
Requested award amount | • An Applicant must state its requested award amount in the Application in AMIS. An Applicant that does not include this amount will not be allowed to submit an Application.
Pending resolution of noncompliance | • The CDFI Fund will consider an Application submitted by an Applicant that has pending noncompliance issues of any of its previously executed award agreement(s), if the CDFI Fund has not yet made a final compliance determination.
Noncompliance or default status | • The CDFI Fund will not consider an Application submitted by an Applicant that has a previously executed award agreement(s) if, as of the date of the Application, (i) the CDFI Fund has made a determination that such entity is noncompliant or found in default with a previously executed agreement, and (ii) the CDFI Fund has provided written notification that such entity is ineligible to apply for or receive any future CDFI Fund awards or allocations. Such entities will be ineligible to submit an Application for such time period as specified by the CDFI Fund in writing.
| • The CDFI Fund will not consider any Applicant that has defaulted on a loan from the CDFI Fund within five years of the Application deadline.

Table 7—Eligibility Requirements for TA Applicants
CDFI certification status | (1) Emerging CDFIs (see definition in Table 5), or
| (2) Certified CDFIs (see Table 5) that meet the following SECA Applicant criteria:
| (1) Have total assets as of the end of the Applicant's most recent fiscal year end date (as stated in the Applicant's AMIS account and verified by internally prepared financial statements and/or audits) in the following amounts:
| • Insured Depository Institutions and Bank Holding Companies: Up to $250 million;
| • Insured Credit Unions and State-Insured Credit Unions: Up to $100 million; • Venture Capital Funds: ² up to $5 million; • Other CDFIs: Up to $5 million; OR
| (2) Have begun operations (as indicated by the financing activity start date field in the Applicant's AMIS account) on or after January 1, 2016.
Matching funds | • Matching funds documentation is not required for TA awards.
Limitation on Awards | • An Emerging CDFI may not receive more than three TA awards as an uncertified CDFI.
Proposed Activities | • Applicants must propose to directly undertake eligible activities with TA awards. For example, an uncertified CDFI Applicant must propose to become certified as part of its Application and a Certified CDFI Applicant must propose activities that build its capacity to serve its Target Market or an Eligible Market.
| • With the exception of Sponsoring Entities in the NACA Program, Applicants may not propose to use a TA award to create a separate legal entity to become a certified CDFI or otherwise carry out the TA award activities.
Regulated Institution | • Each Regulated Institution TA Applicant must have a CAMELS/CAMEL rating (rating for banks and credit unions, respectively) or equivalent type of rating by its regulator (collectively referred to as “CAMELS/CAMEL rating”) of at least “4”.
| • TA Applicants with CAMELS/CAMEL ratings of “5” will not be eligible for awards.
| • The CDFI Fund will also evaluate material concerns identified by the Appropriate Federal Banking Agency in determining the eligibility of Regulated Institution Applicants.
² A Venture Capital Fund is an organization that predominantly invests funds in businesses, typically in the form of either Equity Investments or subordinated debt with equity features such as a revenue participation or warrants, and generally seeks to participate in the upside returns of such businesses in an effort to at least partially offset the risk of its investments.

Table 8—Eligibility Requirements for FA Applicants
CDFI certification status | • Each FA Applicant must be a Certified CDFI prior to the date of the release of this NOFA.
| • The CDFI Fund will consider an Application submitted by an Applicant that has pending noncompliance issues with its Annual Certification Report, if the CDFI Fund has not yet made a final compliance determination.
| • If a Certified CDFI loses its certification at any point prior to the award announcement, the Application will no longer be considered by the CDFI Fund.
Matching funds documentation | • Applicants must submit acceptable documentation attesting that they have received or will receive matching funds. Applicants that do not complete the Matching Funds section in the FA Application in AMIS, documenting the source(s) of their matching funds, will not be evaluated. The matching funds requirements for HFFI-FA and SECA FA Applicants were waived in the final FY 2020 appropriations. Therefore, HFFI-FA and SECA FA Applicants are not required to submit matching funds documentation.
| • Unless Congress waived the matching funds requirement, Applicants must document their matching funds in the Matching Funds section in the FA Application in AMIS. Matching funds information provided in another format will not be considered.
| • Unless Congress waived the matching funds requirement, awards will be limited to no more than two times the amount of In-Hand or Committed matching funds documentation provided at the time of Application. See Table 9 for the definitions of Committed and In-Hand.
| • Unless Congress waived the matching funds requirement, awards will be obligated in like form to the matching funds provided at time of Application. See Table 9. Matching Funds “Determination of Award Form” for additional guidance.
| • Unless Congress waived the matching funds requirement, award payments from the CDFI Fund will require eligible dollar-for-dollar In-Hand matching funds for the total payment amount. Recipients will not receive a payment until 100% of their matching funds are In-Hand.
| • Unless Congress waived the matching funds requirement, the CDFI Fund will reduce and de-obligate the remaining balance of any award that does not demonstrate full dollar-for-dollar matching funds equal to the announced award amount by the end of the Matching Funds Window.
$5 Million funding cap | • The CDFI Fund is prohibited from obligating more than $5 million in CDFI and NACA Program awards, in the aggregate, to any one organization and its Subsidiaries and Affiliates during any three-year period from the announcement date.
| • For TA Applicants, for purposes of this NOFA and per final FY 2020 appropriations language, the CDFI Fund will include CDFI and NACA Program final awards in the cap calculation that were provided to an Applicant (and/or its Subsidiaries or Affiliates) under the FY 2018, and 2019 funding rounds, as well as the requested FY 2020 award, excluding DF-FA and HFFI-FA awards.
| • For FA Applicants, for purposes of this NOFA and per final FY 2020 appropriations language, the CDFI Fund will include CDFI and NACA Program final awards in the cap calculation that were provided to an Applicant (and/or its Subsidiaries or Affiliates) under the FY 2018 and 2019 funding rounds, as well as the requested FY 2020 award, excluding DF-FA and HFFI-FA awards.
FA Category I (SECA) | • To be an eligible SECA Applicant, an Applicant must meet the following criteria:
| (1) Be a Certified CDFI;
| (2) Request $700,000 or less in Base-FA funds;
| (3) Have a total portfolio outstanding of at least $466,700 as of the most recent fiscal year end audit. AND EITHER
| (4) Have total assets as of the end of the Applicant's most recent fiscal year end date (as stated in the Applicant's AMIS account and verified by internally prepared financial statements and/or audits) in the following amounts:
| • Insured Depository Institutions and Bank Holding Companies: Up to $250 million;
| • Insured Credit Unions and State-Insured Credit Unions: Up to $100 million;
| • Venture Capital Funds: Up to $5 million;
| • Other CDFIs: Up to $5 million; OR
| • Have begun operations (as indicated by the financing activity start date field in the Applicant's AMIS account) on or after January 1, 2016.
FA Category II (Core) | • A Core Applicant must be a Certified CDFI as defined in Table 5.
| • A Core Applicant must have a total portfolio outstanding of at least $1,666,700 as of the most recent fiscal year end audit.
| • An Applicant that meets the SECA requirements stated above, and that requests more than $700,000 in Base-FA award funds is categorized as an FA Category II (Core) Applicant, regardless of its total assets and/or years in operation.
FA Applicants with Community Partners | • A CDFI Applicant can apply for assistance jointly with a Community Partner. The CDFI Applicant must complete the CDFI Program Application and address the Community Partnership in its business plan and other sections of the Application as specified in the Application Materials.
| • The CDFI Applicant must be a Certified CDFI as defined in Table 5.
| • An Application with a Community Partner must:
| ○ Describe how the CDFI Applicant and Community Partner will each participate in the partnership and how the partnership will enhance eligible activities serving the Investment Area and/or Targeted Population.
| ○ Demonstrate that the Community Partnership activities are consistent with the strategic plan submitted by the CDFI Applicant.
| • Assistance provided upon approval of an Application with a Community Partner shall only be entrusted to the CDFI Applicant and shall not be used to fund any activity carried out directly by the Community Partner or an Affiliate or Subsidiary thereof.
Regulated Institution | • Each Regulated Institution FA Applicant must have a CAMELS/CAMEL rating (rating for banks and credit unions, respectively) or equivalent type of rating by its regulator (collectively referred to as “CAMELS/CAMEL rating”) of at least “3”.
| • FA Applicants with CAMELS/CAMEL ratings of “4 or 5” will not be eligible for awards.
| • The CDFI Fund will also evaluate material concerns identified by the appropriate regulator in determining eligibility of Regulated Applicants.
PPC-FA | • All PPC-FA Applicants must:
| ○ Submit a CDFI or NACA Program FA Application;
| ○ Meet all FA award eligibility requirements; and
| ○ Provide a PPC-FA award request amount in AMIS.
DF-FA | • All DF-FA Applicants must:
| ○ Submit a CDFI or NACA Program FA Application;
| ○ Meet all FA award eligibility requirements;
| ○ Submit the DF-FA Application; and
| ○ Provide a DF-FA award request amount in AMIS.
HFFI-FA | • All HFFI-FA Applicants must:
| ○ Submit a CDFI or NACA Program FA Application;
| ○ Meet all FA award eligibility requirements;
| ○ Submit the HFFI-FA Application; and
| ○ Provide a HFFI-FA award request amount in AMIS.

B. Matching Funds Requirements: In order to receive a Base-FA, PPC-FA, or DF-FA award, an Applicant must provide evidence of eligible dollar-for-dollar matching funds and attest that it can provide acceptable documentation upon the CDFI Fund's request as part of the Application, unless Congress waived the matching funds requirement. The matching funds requirement for HFFI-FA and SECA FA Applicants was waived in the final FY 2020 appropriations. Therefore, HFFI-FA and SECA FA Applicants are not required to submit matching funds for their award requests. An Applicant that represents that it has Equity Investments and/or deposits matching funds In-Hand at the time of Application submission must provide documentation of such as part of the Application. An Applicant that uses retained earnings as matching funds must provide supporting documentation of In-Hand and/or Committed matching funds at the time of Application submission. The CDFI Fund will review matching funds information, attestations, and supporting matching funds documentation, if applicable, prior to award payment and will disburse funds based upon eligible In-Hand matching funds. The CDFI Fund encourages Applicants to review the Regulations, the Uniform Requirements, and the matching funds guidance materials available on the CDFI Fund's website. Table 9 provides a summary of the matching funds requirements for Category II (Core) FA Applicants applying for Base-FA, PPC-FA, and DF-FA. The matching funds requirement for HFFI-FA and SECA FA Applicants were waived in the final FY 2020 appropriations. Additional details are set forth in the Application Materials.

Table 9—Matching Funds Requirements *
In-Hand matching funds definition | • Matching funds are In-Hand when the Applicant receives payment for the matching funds from the matching funds source and has acceptable documentation that can be provided to the CDFI Fund upon request. Acceptable In-Hand documentation must show the source, form (e.g., grant, loan, deposit, and Equity Investment), amount received, and the date the funds came into physical possession of the Applicant.
| • The following documentation, depending on the matching funds type, must be available to be provided to the CDFI Fund upon request:
| • Loan—the loan agreement and/or promissory note;
| • grant—the grant letter or agreement;
| • Equity Investment—the stock certificate, documentation of total equity outstanding, and shareholder agreement;
| • retained earnings—Retained Earnings Calculator and audited financial statements or call reports from regulating entity for each fiscal year reported in Retained Earnings Calculator;
| • third party in-kind contribution—evidence of receipt of contribution and valuation;
| • deposits—certificates of deposit agreement;
| • secondary capital—secondary capital agreement and disclosure and acknowledgement statement; AND
| • clearly legible documentation that demonstrates actual receipt of the matching funds including the date of the transaction and the amount, such as a copy of a check or a wire transfer statement.
| • Unless Congress waived the matching funds requirement, Applicants must provide information on their In-Hand matching funds in the Matching Funds section of the FA Application in AMIS (refer to Table 10—Required Application Documents) at the time of Application submission.
| • Although Applicants are not required to provide further documentation for In-Hand matching funds at the time of Application submission, (other than supporting documentation for retained earnings, deposits, and Equity Investments, which must be provided at the time of Application submission), they must be able to provide documentation to the CDFI Fund upon request.
Matching funds requirements by Application type | The following Applicants must provide evidence of acceptable matching funds:
| • Category II/Core FA Applicants applying for Base-FA, PPC-FA, and DF-FA
| TA Applicants are not required to provide matching funds.
| The matching funds requirement for HFFI-FA and SECA FA Applicants was waived in the final FY 2020 appropriations. Therefore, HFFI-FA and SECA FA Applicants are not required to provide matching funds.
Amount of required match | Unless waived by Congress, Applicants must provide evidence of eligible, In-Hand, dollar-for-dollar, non-Federal matching funds for every Base-FA, PPC-FA, and DF-FA award dollar to be paid by the CDFI Fund. If awarded, Applicants that do not demonstrate 100% In-Hand matching funds at the time of Application submission may experience a longer payment timeline.
Determination of award form | Unless waived by Congress, Base-FA, PPC-FA, and DF-FA awards will be made in comparable form and value to the eligible In-Hand and/or Committed matching funds submitted by the Applicant.
| • For example, if an Applicant provides documentation of eligible loan matching funds for $200,000 and eligible grant matching funds of $400,000, the CDFI Fund will obligate $200,000 of the FA award as a loan and $400,000 as a grant.
| • The CDFI Fund will not permit a Recipient to change the form of award from loan to grant.
Matching Funds Window definition | • The Applicant must receive eligible In-Hand matching funds between January 1, 2018 and January 15, 2021.
| • A Recipient must provide the CDFI Fund with all documentation demonstrating the receipt of In-Hand matching funds by January 31, 2021.
Matching funds and form of award | • Recipients will be approved for a maximum award size of two times the total amount of eligible In-Hand and/or Committed matching funds included in the Application, so long as they do not exceed the requested award amount.
| • The form of the matching funds documented in the Application determines the form of the award.
Committed matching funds definition | • Matching funds are Committed when the Applicant has entered into or received a legally binding commitment from the matching funds source showing that the matching funds will be disbursed to the Applicant at a future date.
| • The Application must provide information on their Committed matching funds in the Matching Funds section of the FA Application in AMIS (refer to Table 10—Required Application Documents) at the time of Application submission.
| • Although the Applicant is not required to provide further documentation for Committed matching funds at the time of Application submission (other than supporting documentation for retained earnings, deposits, Equity Investments, and credit union shares, which must be provided at the time of Application submission), it must be able to provide the CDFI Fund, upon request, acceptable written documentation showing the source, form, and amount of the Committed matching funds (including, in the case of a loan, the terms thereof), as well as the anticipated payment date of the Committed funds.
Limitations on matching funds | • Matching funds must be from non-Federal sources.
| • Applicants cannot proffer matching funds that were accepted as matching funds for a prior Base-FA, PPC-FA, and/or DF-FA award under the CDFI Program, NACA Program, or under another Federal grant or award program.
| • Matching funds must comply with the Regulations.
| • Matching funds must be attributable to at least one of the five eligible FA activities (see Section II (C) of this NOFA).
Rights of the CDFI Fund | • The CDFI Fund reserves the right to contact the matching funds source to discuss the matching funds and the documentation that the Applicant provided.
| • The CDFI Fund may grant an extension of the Matching Funds Window (defined in Table 9), on a case-by-case basis, if the CDFI Fund deems it appropriate.
| • The CDFI Fund reserves the right to rescind all or a portion of a Base-FA, PPC-FA, and/or DF-FA award and re-allocate the rescinded award amount to other qualified Applicant(s), if a Recipient fails to provide evidence of In-Hand matching funds obtained during the Matching Funds Window totaling its award amount.
Matching funds in the form of third-party in-kind contributions | • Third party in-kind contributions are non-cash contributions (i.e., property or services) provided by non-Federal third parties to the Applicant.
| • Third party in-kind contributions will be considered to be in the form of a grant for matching funds purposes.
| • Third party in-kind contributions may be in the form of real property, equipment, supplies, and other expendable property. The value of goods and services must directly benefit the eligible FA activities.
| • For third party in-kind contributions, the fair market value of goods and services must be documented as the grant match.
| • Applicants will be responsible for documenting the value of all in-kind contributions pursuant to the Uniform Requirements.
Matching funds in the form of a loan | • A Base-FA, PPC-FA, or DF-FA award made in the form of a loan will have the following standardized terms:
| i. A 13-year term with semi-annual interest-only payments due in years 1 through 10, and fully amortizing payments due each year in years 11 through 13; and
| ii. A fixed interest rate of 1.70%, which was calculated by the CDFI Fund based on the U.S. Department of the Treasury's 10-year Treasury note.
| • The Applicant's matching funds loan(s) must:
| i. Have a minimum of a 3-year term (loans presented as matching funds with less than a 3-year term will not qualify as eligible match); and
| ii. be from a non-Federal source.
Matching funds in the form of Equity Investments | • The CDFI Fund reserves the right, in its sole discretion, to perform its own valuation of Equity Investment source(s) and to determine if the equity value is acceptable to the CDFI Fund.
Severe Constraints Waiver | • In the case of an Applicant demonstrating severe constraints on available sources of matching funds, the CDFI Fund, in its sole discretion, may provide a Severe Constraints Waiver, which permits such Applicant to comply with the matching funds requirements by reducing such requirements by up to 50%.
| • In order to be considered eligible for a Severe Constraints Waiver, an Applicant must meet all of the SECA eligibility criteria described in Table 8. Instructions for requesting a Severe Constraints Waiver will be made available if required.
| • No more than 25% of the total funds available for obligation under this funding round may qualify for a Severe Constraints Waiver.
Ineligible matching funds | • Applicants will not be given the opportunity to correct or amend the matching funds information included in the FA Application after Application submission if the CDFI Fund determines that any portion of the Applicant's matching funds is ineligible.
Use of matching funds from a prior CDFI Program Recipient | If an Applicant offers matching funds documentation from an organization that was a prior Recipient under the CDFI Program or NACA Program, the Applicant must be able to prove to the CDFI Fund's satisfaction that such funds do not consist, in whole or in part, of CDFI Program funds, NACA Program funds, or other Federal funds.
Matching funds in the form of retained earnings | • Retained earnings are eligible for use as matching funds when the CDFI Fund calculates an amount equal to:
| i. The increase in retained earnings that occurred over any one of the Applicant's fiscal years within the Matching Funds Window, adjusted to remove revenue and expenses derived from Federal sources and matching funds used for an award; or
| ii. the annual average of such increases that occurred over any three consecutive fiscal years of the Applicant with at least one of the fiscal years occurring within the Matching Funds Window, adjusted to remove revenue and expenses derived from Federal sources and matching funds used for an award; or
| iii. any combination of (i) and (ii) above that does not include matching funds used for an award.
| • Retained earnings will be matched in the form of a grant.
| • Bank Holding Company Applicants must provide call reports for the Bank Holding Company in order to verify their retained earnings, even if the requested FA award (including Base-FA, PPC-FA, and DF-FA) will support its Subsidiary CDFI Insured Depository Institution.
Special rule for Regulated Institutions | • A Regulated Institution's retained earnings are eligible for use as matching funds when the CDFI Fund calculates an amount equal to:
| i. The increase in retained earnings that occurred over any one of the Applicant's fiscal years within the Matching Funds Window, adjusted to remove revenue from Federal sources and matching funds used for an award; or
| ii. the annual average of such increases that occurred over any three consecutive fiscal years of the Applicant with at least one of the fiscal years occurring within the Matching Funds Window, adjusted to remove revenue and expenses derived from Federal sources and matching funds used for an award; or
| iii. the entire retained earnings that have been accumulated since the inception of the Applicant, as provided in the Regulations.
| • If option (iii) is used for Insured Credit Unions or State-Insured Credit Unions, the Applicant must increase its member and/or non-member shares and/or total loans outstanding by an amount equal to the amount of retained earnings committed as matching funds.
| • This increase (1) will be measured on a quarterly basis from March 31, 2020; (2) must occur by the end of Year 1 of the Recipient's Performance Period, as set forth in its Assistance Agreement; and (3) will be based on amounts reported in the Applicant's National Credit Union Administration (NCUA) form 5300 Call Report, or equivalent.
| • The CDFI Fund will assess the likelihood of this increase during the Application review process.
| • An award will not be made to any Applicant that has not demonstrated in the relevant NCUA form 5300 call reports or equivalent that it has increased shares and/or total loans outstanding by at least 25% of the requested FA award amount (including Base-FA, PPC-FA, and DF-FA) between December 31, 2018, and December 31, 2019.
| • The matching funds are not In-Hand until the Recipient has increased its member and/or non-member shares, deposits and/or total loans outstanding by the amount of retained earnings since inception that are being used as matching funds.
| • If option (iii) is used for Insured Depository Institutions or Bank Holding Companies, the Applicant or its Subsidiary CDFI Insured Depository Institution (in the case of a Bank Holding Company) must increase deposits and/or total loans outstanding by an amount equal to the amount of retained earnings committed as matching funds. Bank Holding Company Applicants must use the call reports of the Subsidiary CDFI Insured Depository Institution that the requested the FA award (including Base-FA, PPC-FA, and DF-FA) will support.
| • This increase (1) will be measured on a quarterly basis from March 31, 2020; (2) must occur by the end of Year 1 of the Recipient's Performance Period, as set forth in its Assistance Agreement; and (3) will be based on amounts reported in the call report.
| • The CDFI Fund will assess the likelihood of this increase during the Application review process.
| • An award will not be made to any Applicant that has not demonstrated in the relevant call reports that it has increased deposits and/or total loans outstanding by at least 25% of the requested FA award amount (including Base-FA, PPC-FA, and DF-FA) between December 31, 2018, and December 31, 2019.
| • The matching funds are not In-Hand until the Recipient has increased its deposits and/or total loans outstanding by the amount of retained earnings since inception that are being used as matching funds.
| • All regulated Applicants utilizing the option (iii) should refer to the Retained Earnings Guidance included in the Retained Earnings Calculator Excel Workbook found on the CDFI Fund's website.
* The requirements set forth in Table 9 are applicable to Category II (Core) FA Applicants applying for Base-FA, PPC-FA, and DF-FA. The matching funds requirements for HFFI-FA and SECA FA Applicants were waived in the final FY 2020 appropriations, and therefore the requirements set forth in Table 9 are not applicable to HFFI-FA and SECA FA Applicants for the FY 2020 Funding Round.

IV. Application and Submission Information

A. Address to Request an Application Package: Application Materials can be found on the CDFI Fund's website at www.cdfifund.gov/cdfi. Applicants may request a paper version of any Application material by contacting the CDFI Fund Help Desk at cdfihelp@cdfi.treas.gov. Paper versions of Application Materials will only be provided if an Applicant cannot access the CDFI Fund's website.

B. Content and Form of Application Submission: All Applications must be prepared using the English language, and calculations must be computed in U.S. dollars. The following table lists the Required Application Documents for the FY 2020 Funding Round. The CDFI Fund reserves the right to request and review other pertinent or public information that has not been specifically requested in this NOFA or the Application. Information submitted by the Applicant that the CDFI Fund has not specifically requested will not be reviewed or considered as part of the Application. Financial data, portfolio, and activity information provided in the Application should only include the Applicant's activities. Information submitted must accurately reflect the Applicant's activities.

Table 10—Required Application Documents
Application documents | Applicant type | Submission format
Active AMIS Account | All Applicants | AMIS.
SF-424 | All Applicants | Fillable PDF in Grants.gov.
CDFI Program Application Components: | All Applicants | AMIS.
• Funding Application Detail |  |
• Data, Charts, and Narrative sections as listed in AMIS and outlined in Application Materials |  |
• Matching Funds (FA Core Applicants only) |  |
PPC-FA Application Components: | PPC-FA Applicants | AMIS.
• Funding Application Detail |  |
• Narratives |  |
• AMIS Charts |  |
DF-FA Application Components: | DF-FA Applicants | AMIS.
• Funding Application Detail |  |
• Narratives |  |
• AMIS Charts |  |
HFFI-FA Application Components: | HFFI-FA Applicants | AMIS.
• Funding Application Detail |  |
• Narratives |  |
• AMIS charts |  |
ATTACHMENTS TO THE APPLICATION: Add to “Related Attachments” related list in Application
Key Staff Resumes | All Applicants | PDF or Word document in AMIS.
Organizational Chart | All Applicants | PDF in AMIS.
Audited financial statements for the Applicant's Three Most Recent Historic Fiscal Years | FA Applicants: Loan funds, Venture Capital Funds, and other non-Regulated Institutions | PDF in AMIS.
| TA Applicants, if available: Loan funds, Venture Capital Funds, and other non-Regulated Institutions |
Management Letter for the Applicant's Most Recent Historic Fiscal Year | FA Applicants: Loan funds, Venture Capital Funds, and other non-Regulated Institutions, | PDF in AMIS
The Management Letter is prepared by the Applicant's auditor and is a communication on internal control over financial reporting, compliance, and other matters. The Management Letter contains the auditor's findings regarding the Applicant's accounting policies and procedures, internal controls, and operating policies, including any material weaknesses, significant deficiencies, and other matters identified during auditing. The Management Letter may include suggestions for improving on identified weaknesses and deficiencies and/or best practice suggestions for items that may not be considered to be weaknesses or deficiencies. The Management Letter may also include items that are not required to be disclosed in the annual audited financial statements. The Management Letter is distinct from the auditor's Opinion Letter, which is required by Generally Accepted Accounting Principles (GAAP). Management Letters are not required by GAAP, and are sometimes provided by the auditor as a separate letter from the audit itself | TA Applicants, if audited financial statements are available: Loan funds, Venture Capital Funds, and other non-Regulated Institutions |
Statement(s) in Lieu of Management Letter for Applicant's Most Recent Historic Fiscal Year issued by the Board Treasurer or other Board member using the template provided in the Application Materials (required only if Management Letters are not available for audited financial statements) | FA Applicants: Loan funds, Venture Capital Funds, and other non-Regulated Institutions, | PDF in AMIS.
| TA Applicants, if audited financial statements ARE available but the Management Letters are NOT available: Loan funds, Venture Capital Funds, and other non-Regulated Institutions |
Unaudited financial statements for Applicant's Three Most Recent Historic Years (required only if audited financial statements are not available) | TA Applicants: Loan funds, Venture Capital Funds, and other non-Regulated Institutions | PDF in AMIS.
Current Year to Date—December 31, 2019 Unaudited financial statements | FA and TA Applicants: Loan funds, Venture Capital Funds, and other non-Regulated Institutions | PDF in AMIS.
Community Partnership Agreement | FA Applicants, if applicable | PDF or Word document in AMIS.
Retained Earnings Calculator Excel Workbook (required only if using retained earnings as matching funds) | FA Core Applicants, if applicable | Excel in AMIS.
Call reports for each fiscal year reported in the Retained Earnings Calculator | FA Core Applicants: Regulated Institutions that are using retained earnings as matching funds | PDF in AMIS.
Equity Investment Matching Funds Documentation | FA Core Applicants: For-profit CDFIs that are using In-Hand Equity Investment(s) as matching funds | PDF or Word document in AMIS.
Deposits Matching Funds Documentation | FA Core Applicants: Regulated Institutions that are using In-Hand Deposits as matching funds | PDF or Word document in AMIS.

C. Application Submission: The CDFI Fund has a two-step process that requires the submission of Required Application Documents (listed in Table 10) on separate deadlines and locations. The SF-424 must be submitted through Grants.gov and all other Required Application Documents through the AMIS portal. The CDFI Fund will not accept Applications via email, mail, facsimile, or other forms of communication, except in extremely rare circumstances that have been pre-approved in writing by the CDFI Fund. Applicants are required to submit the OMB SF-424, Application for Federal Assistance form in Grants.gov. All other Required Application Documents (listed in Table 10) will be submitted through AMIS. The deadline for submitting the SF-424 is listed in Tables 1 and 12.

All Applicants must register in the Grants.gov system to successfully submit the SF-424. The Grants.gov registration process can take 45 days or longer to complete and the CDFI Fund strongly encourages Applicants to start the Grants.gov registration process as early as possible (refer to the following link: http://www.grants.gov/web/grants/register.html). Since the Grants.gov registration process requires Applicants to have DUNS and EIN numbers, Applicants without these required numbers should allow for additional time to complete the Grants.gov registration process. Further, as described in Section IV. (E) of this NOFA, new requirements for registration in the System for Awards Management (SAM), which is required as part of the Grants.gov registration process, may take more time than in recent years. The CDFI Fund will not extend the Application deadline for any Applicant that started the Grants.gov registration process but did not complete it by the deadline. An Applicant that has previously registered with Grants.gov must verify that its registration is current and active. Applicants should contact Grants.gov directly with questions related to the registration or submission process as the CDFI Fund does not maintain the Grants.gov system.

Each Application must be signed by a designated Authorized Representative in AMIS before it can be submitted. Applicants must ensure that an Authorized Representative is an employee or officer and is authorized to sign legal documents on behalf of the Applicant. Consultants working on behalf of the Applicant may not be designated as Authorized Representatives. Only a designated Authorized Representative or Application Point of Contact, included in the Application, may submit the Application in AMIS. If an Authorized Representative or Application Point of Contact does not submit the Application, the Application will be deemed ineligible.

D. Dun & Bradstreet Universal Numbering System: Pursuant to the Uniform Requirements, each Applicant must provide as part of its Application submission, a Dun and Bradstreet Universal Numbering System (DUNS) number. Applicants without a DUNS number will not be able to register and submit an Application in the Grants.gov system. Allow sufficient time for Dun & Bradstreet to respond to inquiries and/or requests for DUNS numbers.

E. System for Award Management (SAM): Any entity applying for Federal grants or other forms of Federal financial assistance through Grants.gov must be registered in SAM before submitting its Application. Registration in SAM is required as part of the Grants.gov registration process. The SAM registration process may take one month or longer to complete. A signed notarized letter identifying the SAM authorized entity administrator for the entity associated with the DUNS number is required. This requirement is applicable to new entities registering in SAM, as well as to existing entities with registrations being updated or renewed in SAM. Applicants without DUNS and/or EIN numbers should allow for additional time as an Applicant cannot register in SAM without those required numbers. Applicants that have previously completed the SAM registration process must verify that their SAM accounts are current and active. Each Applicant must continue to maintain an active SAM registration with current information at all times during which it has an active Federal award or an Application under consideration by a Federal awarding agency. The CDFI Fund will not consider any Applicant that fails to properly register or activate its SAM account and, as a result, is unable to submit the SF-424 in Grants.gov or Application in AMIS by the applicable Application deadlines. These restrictions also apply to organizations that have not yet received a DUNS or EIN number. Applicants must contact SAM directly with questions related to registration or SAM account changes as the CDFI Fund does not maintain this system and has no ability to make changes or correct errors of any kind. For more information about SAM, visit https://www.sam.gov.

Table 11—Grants.gov Registration Timeline Summary
Step | Agency | Estimated minimum time to complete
Obtain a DUNS number | Dun & Bradstreet | One (1) Week *.
Obtain an EIN Number | Internal Revenue Service (IRS) | Two (2) Weeks *.
Register in SAM.gov | System for Award Management (SAM.gov) | Four(4) Weeks *.
Register in Grants.gov | Grants.gov | One (1) Week **.
* Applicants are advised that the stated durations are estimates only and represent minimum timeframes. Actual timeframes may take longer. The CDFI Fund will not consider any Applicant that fails to properly register or activate its SAM account, has not yet received a DUNS or EIN number, and/or fails to properly register in Grants.gov.
** This estimate assumes an Applicant has a DUNS number, an EIN number, and is already registered in SAM.gov.

F. Submission Dates and Times:

1. Submission Deadlines: The following table provides the critical deadlines for the FY 2020 Funding Round.

Table 12—FY 2020 Funding Round Critical Deadlines for Applicants
Description | Deadline | Time eastern time (ET) | Submission method
Last day to create AMIS Account (all Applicants) | March 23, 2020 | 11:59 p.m. ET | AMIS.
Last day to enter EIN and DUNS numbers in AMIS | March 23, 2020 | 11:59 p.m. ET | AMIS.
Last day to submit SF-424 (Application for Federal Assistance) | March 23, 2020 | 11:59 p.m. ET | Electronically via Grants.gov.
Last day to contact CDFI Program staff | April 17, 2020 | 5:00 p.m. ET | Service Request via AMIS Or CDFI Fund Helpdesk: 202-653-0421.
Last day to contact AMIS-IT Help Desk (regarding AMIS technical problems only) | April 21, 2020 | 5:00 p.m. ET | Service Request via AMIS Or 202-653-0422 Or AMIS@cdfi.treas.gov.
Last day to submit CDFI Program Application for FA or TA | April 21, 2020 | 11:59 p.m. ET | Electronically via AMIS.

2. Confirmation of Application Submission in Grants.gov and AMIS: Applicants are required to submit the OMB SF-424, Application for Federal Assistance through the Grants.gov system, under the CDFI Program Funding Opportunity Number by the applicable deadline. All other Required Application Documents (listed in Table 10) must be submitted through the AMIS website by the applicable deadline. Applicants must submit the SF-424 prior to submitting the Application in AMIS. If the SF-424 is not successfully accepted by Grants.gov by the deadline, the CDFI Fund will not review the Application submitted in AMIS, and the Application will be deemed ineligible.

a. Grants.gov Submission Information: Each Applicant will receive an email from Grants.gov immediately after submitting the SF-424 confirming that the submission has entered the Grants.gov system. This email will contain a tracking number for the submitted SF-424. Within 48 hours, the Applicant will receive a second email, which will indicate if the submitted SF-424 was either successfully validated or rejected with errors. However, Applicants should not rely on the email notification from Grants.gov to confirm that their SF-424 was validated. Applicants are strongly encouraged to use the tracking number provided in the first email to closely monitor the status of their SF-424 by contacting the helpdesk at Grants.gov directly. The Application material submitted in AMIS is not officially accepted by the CDFI Fund until Grants.gov has validated the SF-424.

b. AMIS Submission Information: AMIS is a web-based portal where Applicants will directly enter their Application information and add the required attachments listed in Table 10. AMIS will verify that the Applicant provided the minimum information required to submit an Application. Applicants are responsible for the quality and accuracy of the information and attachments included in the Application submitted in AMIS. The CDFI Fund strongly encourages Applicants to allow for sufficient time to review and complete all Required Application Documents listed in Table 10, and remedy any issues prior to the Application deadline. Each Application must be signed by an Authorized Representative in AMIS before it can be submitted. Applicants must ensure that the Authorized Representative is an employee or officer and is authorized to sign legal documents on behalf of the Applicant. Consultants working on behalf of the Applicant may not be designated as Authorized Representatives. Only an Authorized Representative or an Application Point of Contact may submit an Application. If an Authorized Representative or Application Point of Contact does not submit the Application, the Application will be deemed ineligible. Applicants may only submit one Base-FA or TA Application under the CDFI Program. Upon submission, the Application will be locked and cannot be resubmitted, edited, or modified in any way. The CDFI Fund will not unlock or allow multiple Application submissions.

3. Late Submission: The CDFI Fund will not accept an Application if the SF-424 is not submitted and accepted by Grants.gov by the SF-424 deadline. Additionally, the CDFI Fund will not accept an Application if it is not signed by an Authorized Representative and submitted in AMIS by the Application deadline. In either case, the CDFI Fund will not review any material submitted, and the Application will be deemed ineligible.

However, in cases where a Federal government administrative or technological error directly resulted in a late submission of the SF-424 or the Application, Applicants are provided two opportunities to submit a written request for acceptance of late submissions. The CDFI Fund will not consider the late submission of the SF-424 or the Application that was a direct result of a delay in a Federal Government process, unless such delay was the result of a Federal government administrative or technological error.

a. SF-424 Late Submission: In cases where a Federal government administrative or technological error directly resulted in the late submission of the SF-424, the Applicant must submit a written request for acceptance of the late SF-424 submission and include documentation of the error no later than two business days after the SF-424 deadline. The CDFI Fund will not respond to requests for acceptance of late SF-424 submissions after that time period. Applicants must submit late SF-424 submission requests to the CDFI Fund via an AMIS service request to the CDFI Program with a subject line of “Late SF-424 Submission Request.”

b. Application Late Submission: In cases where a Federal government administrative or technological error directly resulted in a late submission of the Application in AMIS, the Applicant must submit a written request for acceptance of the late Application submission and include documentation of the error no later than two business days after the Application deadline. The CDFI Fund will not respond to requests for acceptance of late Application submissions after that time period. Applicants must submit late Application submission requests to the CDFI Fund via an AMIS service request to the CDFI Program with a subject line of “Late Application Submission Request.”

G. Funding Restrictions: Base-FA, PPC-FA, DF-FA, HFFI-FA and TA awards are limited by the following:

1. Base-FA awards:

a. A Recipient shall use Base-FA funds only for the eligible activities described in Section II. (C)(1) of this NOFA and its Assistance Agreement.

b. With the exception of Bank Holding Company Applicants, Base-FA awards may not be used to support the activities of, or otherwise be passed through, transferred, or co-awarded to, third-party entities, whether Affiliates, Subsidiaries, or others, unless done pursuant to a merger or acquisition or similar transaction, and with the CDFI Fund's prior written consent.

c. Base-FA funds shall only be paid to the Recipient.

d. The CDFI Fund, in its sole discretion, may pay Base-FA funds in amounts, or under terms and conditions, which are different from those requested by an Applicant.

e. The Recipient must comply, as applicable, with the Buy American Act of 1933, 41 U.S.C. 8301-8303, with respect to any Direct Costs.

2. PPC-FA awards:

a. A Recipient shall use PPC-FA funds only for the eligible activities described in Section II. (C)(5) of this NOFA and its Assistance Agreement.

b. With the exception of Bank Holding Company Applicants, PPC-FA awards may not be used to support the activities of, or otherwise be passed through, transferred, or co-awarded to, third-party entities, whether Affiliates, Subsidiaries, or others, unless done pursuant to a merger or acquisition or similar transaction, and with the CDFI Fund's prior written consent.

c. PPC-FA funds shall only be paid to the Recipient.

d. The CDFI Fund, in its sole discretion, may pay PPC-FA funds in amounts, or under terms and conditions, which are different from those requested by an Applicant.

e. The Recipient must comply, as applicable, with the Buy American Act of 1933, 41 U.S.C. 8301-8303, with respect to any Direct Costs.

3. DF-FA awards:

a. A Recipient shall use DF-FA funds only for the eligible activities described in Section II. (C)(2) of this NOFA and its Assistance Agreement.

b. With the exception of Bank Holding Company Applicants, DF-FA awards may not be used to support the activities of, or otherwise be passed through, transferred, or co-awarded to, third-party entities, whether Affiliates, Subsidiaries, or others, unless done pursuant to a merger or acquisition or similar transaction, and with the CDFI Fund's prior written consent.

c. DF-FA funds shall only be paid to the Recipient.

d. The CDFI Fund, in its sole discretion, may pay DF-FA funds in amounts, or under terms and conditions, which are different from those requested by an Applicant.

e. The Recipient must comply, as applicable, with the Buy American Act of 1933, 41 U.S.C. 8301-8303, with respect to any Direct Costs.

2. HFFI-FA awards:

a. A Recipient shall use HFFI-FA funds only for the eligible activities described in Section II. (C)(4) of this NOFA and its Assistance Agreement.

b. With the exception of Bank Holding Company Applicants, HFFI-FA awards may not be used to support the activities of, or otherwise be passed through, transferred, or co-awarded to, third-party entities, whether Affiliates, Subsidiaries, or others, unless done pursuant to a merger or acquisition or similar transaction, and with the CDFI Fund's prior written consent.

c. HFFI-FA funds shall only be paid to the Recipient.

d. The CDFI Fund, in its sole discretion, may pay HFFI-FA funds in amounts, or under terms and conditions, which are different from those requested by an Applicant.

e. The Recipient must comply, as applicable, with the Buy American Act of 1933, 41 U.S.C. 8301-8303, with respect to any Direct Costs.

3. TA grants:

a. A Recipient shall use TA funds only for the eligible activities described in Section II. (C) (3) of this NOFA and its Assistance Agreement.

b. With the exception of Bank Holding Company Applicants, TA awards may not be used to support the activities of, or otherwise be passed through, transferred, or co-awarded to, third-party entities, whether Affiliates, Subsidiaries, or others, unless done pursuant to a merger or acquisition or similar transaction, and with the CDFI Fund's prior written consent.

c. TA funds shall only be paid to the Recipient.

d. The CDFI Fund, in its sole discretion, may pay TA funds in amounts, or under terms and conditions, which are different from those requested by an Applicant.

e. The Recipient must comply, as applicable, with the Buy American Act of 1933, 41 U.S.C. 8301-8303, with respect to any Direct Costs.

V. Application Review Information

A. Criteria: If the Applicant has submitted an eligible Application, the CDFI Fund will conduct a substantive review in accordance with the criteria and procedures described in the Regulations, this NOFA, the Application guidance, and the Uniform Requirements. The CDFI Fund reserves the right to contact the Applicant by telephone, email, or mail for the purpose of clarifying or confirming Application information. If contacted, the Applicant must respond within the time period communicated by the CDFI Fund or risk that its Application will be rejected. The CDFI Fund will review the Base-FA, DF-FA, PPC-FA, HFFI-FA, and TA Applications in accordance with the process below. All internal and external reviewers will complete the CDFI Fund's conflict of interest process. The CDFI Fund's Application conflict of interest policy is located on the CDFI Fund's website.

1. Base-FA Application Scoring, Award Selection, Review, and Selection Process: The CDFI Fund will evaluate each Application using a five-step review process illustrated in the sections below. Applicants that meet the minimum criteria will advance to the next step in the review process. Applicants applying as a Community Partnership must describe the partnership in the Application pursuant to the requirements set forth in Table 8, and will be evaluated in accordance with the review process described below.

a. Step 1: Eligibility Review: The CDFI Fund will evaluate each Application to determine its eligibility status pursuant to Section III of this NOFA.

b. Step 2: Financial Analysis and Compliance Risk Evaluation:

i. Step 2: Financial Analysis: For Regulated Institutions, the CDFI Fund will consider financial safety and soundness information from the Appropriate Federal or State Banking Agency. As detailed in Table 8, each Regulated Institution FA Applicant must have a CAMELS/CAMEL rating of at least “3” and/or no significant materials concerns from its regulator.

For non-regulated Applicants, the CDFI Fund will evaluate the financial health and viability of each non-regulated Applicant using financial information provided by the Applicant. For the Financial Analysis, each non-regulated Applicant will receive a Total Financial Composite Score on a scale of one (1) to five (5), with one (1) being the highest rating. The Total Financial Composite Score is based on the analysis of twenty-three (23) financial indicators. Applications will be grouped based on the Total Financial Composite Score. Applicants must receive a Total Financial Composite Score of one (1), two (2), or three (3) to advance to Step 3. Applicants that receive an initial Total Financial Composite Score of four (4) or five (5) will be re-evaluated and re-scored by CDFI Fund staff. If the Total Financial Composite Score remains four (4) or five (5) after CDFI Fund staff review, the Applicant will not advance to Step 3.

ii. Step 2: Compliance Risk Evaluation: For the compliance analysis, the CDFI Fund will evaluate the compliance risk of each Applicant using information provided in the Application as well as an Applicant's reporting history, reporting capacity, and performance risk with respect to the CDFI Fund's PG&Ms. Each Applicant will receive a Total Compliance Composite Score on a scale of one (1) to five (5), with one (1) being the highest rating. Applicants that receive an initial Total Compliance Composite Score of four (4) or five (5) will be re-evaluated by CDFI Fund Staff. If the Applicant is deemed a high compliance risk after CDFI Fund Staff review, the Applicant will not advance to Step 3.

c. Step 3: Business Plan Review: Applicants that proceed to Step 3 will be evaluated on the soundness of their comprehensive business plan. Two external non-CDFI Fund Reviewers will conduct the Step 3 evaluation. Reviewers will evaluate the Application sections listed in Table 13. All Applications will be reviewed in accordance with standard reviewer evaluation materials. Applications will be ranked based on Total Business Plan Scores, in descending order. In order to advance to Step 4, Applicants must receive a Total Business Plan Score that is either (1) equal to receiving a point score equivalent to a “Good” out of a ranking scale in descending order of Excellent, Good, Fair, Limited or Poor, in each section listed in Table 13, or (2) within the top 60% of the Core Applicant pool for Core Applicants or within the top 70% of the SECA Applicant pool for SECA Applicants, whichever is greater. In the case of tied Total Business Plan Scores that would prevent an Applicant from moving to Step 4, all Applicants with the same score will progress to Step 4. Lastly, the CDFI Fund may consider the geographic diversity of Applicants when determining the Step 4 Applicant pool.

Table 13—Step 3: Base-FA Business Plan Review Scoring Criteria
Base-FA application sections | Possible score | Score needed to advance
Executive Summary | (¹) | N/A.
Business Strategy | 12 | N/A.
Market and Competitive Analysis | 7 | N/A.
Products and Services | 12 | N/A.
Management and Track Record | 12 | N/A.
Growth and Projections | 7 | N/A.
Total Business Plan Score | 50 | Core Applicants: Top 60% of all Core Applicant Step 3 Scores SECA Applicants: Top 70% of all SECA Applicant Step 3 Scores.
¹ Not scored.

d. Step 4: Policy Objective Review: The CDFI Fund internal reviewers will evaluate each Application to determine its ability to meet policy objectives of the CDFI Fund. Each Applicant will be evaluated in each of the categories listed in Table 14 below, and will receive a Total Policy Objective Review Composite Score on a scale of one (1) to five (5), with one (1) being the highest score. Applicants are then grouped according to Total Policy Objective Review Scores.

The CDFI Fund also conducts a due diligence review for Applications that includes an analysis of programmatic risk factors including, but not limited to: History of performance in managing Federal awards (including timeliness of reporting and compliance); ability to meet FA Objective(s) selected by Base-FA Applicants in their Applications; reports and findings from audits; and the Applicant's ability to effectively implement Federal requirements, each of which could impact the Total Policy Objective Review Score.

Table 14—Step 4: Base-FA Policy Review Scoring Criteria
Section | Possible scores | High score | Score needed to advance
Economic Distress | 1, 2, 3, 4, or 5 | 1 | N/A.
Economic Opportunities | 1, 2, 3, 4, or 5 | 1 | N/A.
Community Collaboration | 1, 2, 3, 4, or 5 | 1 | N/A.
Total Policy Objective Review Composite Score | 1, 2, 3, 4, or 5 | 1 | All Scores Advance.

e. Step 5: Award Amount Determination: The CDFI Fund determines an award amount for each Application based on the Step 4 Total Policy Objective Review Score, the Applicant's request amount, and on certain other factors, including but not limited to, an Applicant's deployment track record, minimum award size, and funding availability. Award amounts may be reduced from the requested award amount as a result of this analysis. For Core FA Applicants, the award cannot exceed 30% of the Applicant's total portfolio outstanding as of the end of the Applicant's most recent fiscal year. For SECA FA Applicants, the award cannot exceed 75% of the Applicant's total portfolio outstanding as of the end of the Applicant's most recent fiscal year.

2. Healthy Food Financing Initiative-FA (HFFI-FA) Application Scoring, Award Selection, Review, and Selection Process: A CDFI Fund internal reviewer will evaluate each HFFI-FA Application associated with a Base-FA Application that progresses to Step 4 of the FA Application review process. The reviewer will evaluate the Application sections listed in Table 15 and assign a Total HFFI- FA Score up to 60 points. The CDFI Fund will make awards to the highest scoring Applicants first. All Applications will be reviewed in accordance with standard reviewer evaluation materials. Applicants that fail to receive a Base-FA award will not be considered for a HFFI-FA award.

The CDFI Fund conducts additional levels of due diligence for Applications that are under consideration for an HFFI-FA award. Award amounts may be reduced from the requested award amount as a result of this analysis. The CDFI Fund may reduce awards sizes from requested amounts based on certain variables, including but not limited to, an Applicant's loan disbursement activity, total portfolio outstanding, or compliance with prior HFFI-FA awards. Lastly, the CDFI Fund may consider the geographic diversity of Applicants when making its funding decisions.

Table 15—Step 4 HFFI-FA Application Scoring Criteria
Sections | Possible score
Target Market Profile | 10 points.
Healthy Food Financial Products | 10 points.
Projected HFFI-FA Activities | 15 points.
HFFI Track Record | 20 points.
Management Capacity for Providing Healthy Food Financing | 5 points.
Total HFFI-FA Possible Score | 60 points.

3. Persistent Poverty Counties—Financial Assistance (PPC-FA) Application Scoring, Award Selection, Review, and Selection Process: A CDFI Fund internal reviewer will evaluate the PPC-FA request of each associated Base-FA Application that progresses to Step 4 of the FA Application review process. PPC-FA requests are not scored. PPC-FA award amounts will be determined based on the total number of eligible Applicants and funding availability, the Applicant's requested amount, and on certain factors, including but not limited to, an Applicant's overall portfolio size, historical track record of deployment in PPC, pipeline of projects in PPC, minimum award size, and funding availability. Applicants that fail to receive a Base-FA award will not be considered for a PPC-FA award.

4. Disability Funds-Financial Assistance (DF-FA) Application Scoring, Award Selection, Review, and Selection Process: A CDFI Fund internal reviewer will evaluate each DF-FA Application associated with a Base-FA Application that progresses to Step 4 of the FA Application review process. The reviewer will evaluate the Application and assign a Total DF-FA Score on a scale of one (1) to three (3), with one (1) being the highest score. Applicants are then grouped according to Total DF-FA Score. All Applications will be reviewed in accordance with standard reviewer evaluation materials. Applicants that fail to receive a Base-FA award will not be considered for a DF-FA award. Award amounts will be determined on the basis of the Total DF-FA Score, the Applicant's requested amount, and on certain factors, including but not limited to, an Applicant's deployment track record, minimum award size, and funding availability. Award amounts may be reduced from the requested award amount as a result of this analysis. The CDFI Fund will make awards to the highest scoring Applicants first.

Table 16—Step 3 DF-FA Application Scoring Criteria
Section | Possible scores | High score
DF-FA Narrative Questions | 1, 2, or 3 | 1
Total DF-FA Score | 1, 2, or 3 | 1

5. Technical Assistance (TA) Application Scoring, Award Selection, Review, and Selection Process: The CDFI Fund will evaluate each Application to determine its eligibility pursuant to Section III of this NOFA. If the Application satisfies the eligibility criteria, the CDFI Fund will evaluate the TA Application. Emerging CDFI Applicants must receive a rating of Low Risk or Medium Risk in Section I of the TA Business Plan Review to progress to Section II of the TA Business Plan Review. Emerging CDFI Applicants that receive a rating of High Risk in Section I of the TA Business Plan Review will not be considered for an award. Emerging CDFI and Certified CDFI Applicants must receive a rating of Low Risk or Medium Risk in Section II of the TA Business Plan Review to be considered for an award. Applicants that receive a rating of High Risk in Section II of the TA Business Plan Review will not be considered for an award. An Applicant that is a Certified CDFI will be evaluated on the demonstrated need for TA funding to build the CDFI's capacity, further the Applicant's strategic goals, and achieve impact within the Applicant's Target Market. An Applicant that is an Emerging CDFI will be evaluated on the Applicant's demonstrated capability and plan to achieve CDFI certification within three years, or if a prior Recipient, the certification PG&M stated in its prior Assistance Agreement. An Applicant that is an Emerging CDFI will also be evaluated on its demonstrated need for TA funding to build the CDFI's capacity and further its strategic goals. The CDFI Fund will rate each part of the TA Business Plan Review as indicated in Table 17.

Table 17—TA Business Plan Review
Business plan review component | Applicant type | Ratings
Section I:
Primary Mission | Emerging CDFI Applicants | Low Risk, Medium Risk, or High Risk.
Financing Entity | Emerging CDFI Applicants
Target Market | Emerging CDFI Applicants
Accountability | Emerging CDFI Applicants
Development Services | Emerging CDFI Applicants
Section II:
Target Market Needs & Strategy | Emerging and Certified CDFI Applicants | Low Risk, Medium Risk, or High Risk.
Organizational Capacity | Emerging and Certified CDFI Applicants
Management Capacity | Emerging and Certified CDFI Applicants

Each TA Application will be evaluated by one internal CDFI Fund reviewer. All Applications will be reviewed in accordance with CDFI Fund standard reviewer evaluation materials for the Business Plan Review.

The CDFI Fund conducts additional levels of due diligence for Applications that are under consideration for an award. This due diligence includes an analysis of programmatic and financial risk factors including, but not limited to, financial stability, history of performance in managing Federal awards (including timeliness of reporting and compliance), reports and findings from audits, and the Applicant's ability to effectively implement Federal requirements. The CDFI Fund will also evaluate the compliance risk of each Applicant using information provided in the Application as well as an Applicant's reporting history, reporting capacity, and performance risk with respect to the CDFI Fund's PG&Ms. Each Applicant will receive a Total Compliance Composite Score on a scale of one (1) to five (5), with one (1) being the highest rating. Applicants that receive an initial Total Compliance Composite Score of four (4) or five (5) will be re-evaluated by CDFI Fund Staff. If the Applicant is deemed a high compliance risk after CDFI Staff review, the Applicant will not be considered for an award. The CDFI Fund will also evaluate the Applicant's ability to meet certification criteria of being a legal entity and a non-government entity. Award amounts may be reduced as a result of the due diligence analysis in addition to consideration of the Applicant's funding request and similar factors. Lastly, the CDFI Fund may consider the geographic diversity of Applicants when making its funding decisions.

6. Regulated Institutions: The CDFI Fund will consider safety and soundness information from the Appropriate Federal or State Banking Agency. If the Applicant is a CDFI Bank Holding Company, the CDFI Fund will consider information provided by the Appropriate Federal or State Banking Agencies about both the CDFI Bank Holding Company and the Certified CDFI Subsidiary Insured Depository Institution that will expend and carry out the award. If the Appropriate Federal or State Banking Agency identifies safety and soundness concerns, the CDFI Fund will assess whether such concerns cause or will cause the Applicant to be incapable of undertaking the activities for which funding has been requested.

7. Non-Regulated Institutions: The CDFI Fund must ensure, to the maximum extent practicable, that Recipients which are non-regulated CDFIs are financially and managerially sound, and maintain appropriate internal controls (12 U.S.C. 4707(f)(1)(A) and 12 CFR 1805.800(b)). Further, the CDFI Fund must determine that an Applicant's capacity to operate as a CDFI and its continued viability will not be dependent upon assistance from the CDFI Fund (12 U.S.C. 4704(b)(2)(A)). If it is determined that the Applicant is incapable of meeting these requirements, the CDFI Fund reserves the right to deem the Applicant ineligible or terminate the award.

B. Anticipated Award Announcement: The CDFI Fund anticipates making CDFI Program award announcements before September 30, 2020. However, the anticipated award announcement date is subject to change without notice.

C. Application Rejection: The CDFI Fund reserves the right to reject an Application if information (including administrative errors) comes to the CDFI Fund's attention that: Adversely affects an Applicant's eligibility for an award; adversely affects the Recipient's certification as a CDFI (to the extent that the award is conditional upon CDFI certification); adversely affects the CDFI Fund's evaluation or scoring of an Application; or indicates fraud or mismanagement on the Applicant's part. If the CDFI Fund determines any portion of the Application is incorrect in a material respect, the CDFI Fund reserves the right, in its sole discretion, to reject the Application. The CDFI Fund reserves the right to change its eligibility and evaluation criteria and procedures, if the CDFI Fund deems it appropriate. If the changes materially affect the CDFI Fund's award decisions, the CDFI Fund will provide information about the changes through its website. The CDFI Fund's award decisions are final, and there is no right to appeal decisions.

D. External Non-CDFI Fund Reviewers: All external non-CDFI Fund reviewers are selected based on criteria that includes a professional background in community and economic development finance, and experience reviewing the financial statements of all CDFI institution types. Reviewers must complete the CDFI Fund's conflict of interest process and be approved by the CDFI Fund. The CDFI Fund's Application reader conflict of interest policy is located on the CDFI Fund's website.

VI. Federal Award Administration Information

A. Award Notification: Each successful Applicant will receive an email “notice of award” notification from the CDFI Fund stating that its Application has been approved for an award. Each Applicant not selected for an award will receive an email stating that a debriefing notice has been provided in its AMIS account.

B. Assistance Agreement: Each Applicant selected to receive an award must enter into an Assistance Agreement with the CDFI Fund in order to receive a payment(s). The Assistance Agreement will set forth the award's terms and conditions, including but not be limited to the: (i) Award amount; (ii) award type; (iii) award uses; (iv) eligible use of funds; (v) PG&Ms; and (vi) reporting requirements. FA Assistance Agreements have three-year Periods of Performance. TA Assistance Agreements have two-year Period of Performance for Certified CDFIs and three-year Periods of Performance for Emerging CDFIs.

1. Certificate of Good Standing: All FA and TA Recipients that are not Regulated Institutions will be required to provide the CDFI Fund with a certificate of good standing from the secretary of state for the Recipient's jurisdiction of formation prior to closing. This certificate can often be acquired online on the secretary of state website for the Recipient's jurisdiction of formation and must generally be dated within 180 days prior to the date the Recipient executes the Assistance Agreement. Due to potential backlogs in state government offices, Applicants are advised to submit requests for certificates of good standing no later than 60 days after they submit their Applications.

2. Closing: Pursuant to the Assistance Agreement, there will be an initial closing at which point the Assistance Agreement and related documents will be properly executed and delivered, and an initial payment of FA or TA may be made. FA Recipients that are subject to the matching funds requirement will not receive a payment until 100% of their matching funds are In-Hand. The first payment is the estimated amount of the award that the Recipient states in its Application that it will use for eligible FA or TA activities in the first 12 months after the award announcement. The CDFI Fund reserves the right to increase the first payment amount on any award to ensure that any subsequent payments are at least $25,000 for FA and $5,000 for TA awards.

The CDFI Fund will minimize the time between the Recipient incurring costs for eligible activities and award payment(s) in accordance with the Uniform Requirements. Advanced payments for eligible activities will occur no more than one year in advance of the Recipient incurring costs for the eligible activities. Following the initial closing, there may be subsequent closings involving additional award payments. Any documentation in addition to the Assistance Agreement that is connected with such subsequent closings and payments shall be properly executed and timely delivered by the Recipient to the CDFI Fund.

3. Requirements Prior to Entering into an Assistance Agreement: If, prior to entering into an Assistance Agreement, information (including administrative errors) comes to the CDFI Fund's attention that: Adversely affects the Recipient's eligibility for an award; adversely affects the Recipient's certification as a CDFI (to the extent that the award is conditional upon CDFI certification); adversely affects the CDFI Fund's evaluation of the Application; indicates that the Recipient is not in compliance with any requirement listed in the Uniform Requirements; indicates the Recipient has failed to execute and return a prior round Assistance Agreement to the CDFI Fund within the CDFI Fund's deadlines; or indicates fraud or mismanagement on the Recipient's part, the CDFI Fund may, in its discretion and without advance notice to the Recipient, terminate the award or take such other actions as it deems appropriate. The CDFI Fund reserves the right, in its sole discretion, to rescind an award if the Recipient fails to return the Assistance Agreement, signed by the Authorized Representative of the Recipient, and/or provide the CDFI Fund with any requested documentation, within the CDFI Fund's deadlines.

In addition, the CDFI Fund reserves the right, in its sole discretion, to terminate and rescind the Assistance Agreement and the award made under this NOFA pending the criteria described in the following table:

Table 18—Requirements Prior to Executing an Assistance Agreement
Requirement | Criteria
Failure to meet reporting requirements | • If a Recipient received a prior award under any CDFI Fund program and is not in compliance with the reporting requirements of the previously executed agreement(s), the CDFI Fund may delay entering into an Assistance Agreement or disbursing an award until such reporting requirements are met. If the Recipient is unable to meet the requirement(s) within the timeframe specified by the CDFI Fund, the CDFI Fund may terminate and rescind the Assistance Agreement and the award made under this NOFA.
| • The automated systems the CDFI Fund uses only acknowledge a report's receipt and are not a determination of meeting reporting requirements.
Failure to maintain CDFI Certification | • An FA Recipient must be a Certified CDFI.
| • If an FA Recipient fails to maintain CDFI Certification, the CDFI Fund will terminate and rescind the Assistance Agreement and the award made under this NOFA.
| • If TA Recipient is a Certified CDFI at the time of award announcement, it must maintain CDFI Certification.
| • If a Certified CDFI TA Recipient fails to maintain CDFI Certification, the CDFI Fund may terminate and rescind the Assistance Agreement and the award made under this NOFA.
Pending resolution of noncompliance | • The CDFI Fund will delay entering into an Assistance Agreement with a Recipient that has pending noncompliance issues with any of its previously executed CDFI award agreement(s), if the CDFI Fund has not yet made a final compliance determination.
| • If the Recipient is unable to satisfactorily resolve the compliance issues, the CDFI Fund may terminate and rescind the Assistance Agreement and the award made under this NOFA.
Noncompliance or default status | • If, at any time prior to entering into an Assistance Agreement, the CDFI Fund determines that a Recipient is noncompliant or found in default with any previously executed award agreement(s) and the CDFI Fund has provided written notification that the Recipient is ineligible to apply for or receive any future awards or allocations for a time period specified by the CDFI Fund in writing, the CDFI Fund may delay entering into an Assistance Agreement until the Recipient has cured the noncompliance by taking actions the CDFI Fund has specified within such specified timeframe. If the Recipient is unable to cure the noncompliance within the specified timeframe, the CDFI Fund may terminate and rescind the Assistance Agreement and the award made under this NOFA.
Compliance with Federal civil rights requirements | • If, prior to entering into an Assistance Agreement under this NOFA, the Recipient receives a final determination, made within the last three years, in any proceeding instituted against the Recipient in, by, or before any court, governmental, or administrative body or agency, declaring that the Recipient has violated the following laws: Title VI of the Civil Rights Act of 1964, as amended (42 U.S.C. 2000d); Section 504 of the Rehabilitation Act of 1973 (29 U.S.C. 794); the Age Discrimination Act of 1975, (42 U.S.C. 6101-6107), and Executive Order 13166, Improving Access to Services for Persons with Limited English Proficiency, the CDFI Fund will terminate and rescind the Assistance Agreement and the award made under this NOFA.
Do Not Pay | • The Do Not Pay Business Center was developed to support Federal agencies in their efforts to reduce the number of improper payments made through programs funded by the Federal government.
| • The CDFI Fund reserves the right, in its sole discretion, to rescind an award if the Recipient is identified as an ineligible Recipient in the Do Not Pay database.
Safety and soundness | • If it is determined the Recipient is, or will be, incapable of meeting its award obligations, the CDFI Fund will deem the Recipient to be ineligible, or require it to improve its safety and soundness prior to entering into an Assistance Agreement.

C. Reporting:

1. Reporting requirements: On an annual basis during the Period of Performance, the CDFI Fund may collect information from each Recipient including, but not limited to, an Annual Report with the following components (Annual Reporting Requirements):

Table 19—Annual Reporting Requirements *
Financial Statement Audit Report (Non-profit Recipient including Insured Credit Unions and State-Insured Credit Unions) | A Non-profit Recipient (including Insured Credit Unions and State-Insured Credit Unions) must submit a Financial Statement Audit (FSA) report in AMIS, along with the Recipient's statement of financial condition audited or reviewed by an independent certified public accountant, if any are prepared.
| Under no circumstances should this be construed as the CDFI Fund requiring the Recipient to conduct or arrange for additional audits not otherwise required under Uniform Requirements or otherwise prepared at the request of the Recipient or parties other than the CDFI Fund.
Financial Statement Audit Report (For-Profit Recipient) | For-profit Recipients must submit a FSA report in AMIS, along with the Recipient's statement of financial condition audited or reviewed by an independent certified public accountant.
Financial Statement Audit Report (Bank Holding Company and Insured Depository Institution) | If the Recipient is a Bank Holding Company or an Insured Depository Institution, it must submit a FSA report in AMIS.
Single Audit Report (Non-Profit Recipients, if applicable) | A non-profit Recipient must complete an annual Single Audit pursuant to the Uniform Requirements (2 CFR 200.500) if it expends $750,000 or more in Federal awards in its fiscal year, or such other dollar threshold established by OMB pursuant to 2 CFR 200.500. If a Single Audit is required, it must be submitted electronically to the Federal Audit Clearinghouse (FAC) (see 2 CFR Subpart F-Audit Requirements in the Uniform Requirements) and optionally through AMIS.
Transaction Level Report (TLR) | The Recipient must submit a TLR to the CDFI Fund through AMIS.
| If the Recipient is a Bank Holding Company that deploys all or a portion of its Financial Assistance through its Subsidiary CDFI Insured Depository Institution, that Subsidiary CDFI Insured Depository Institution must also submit a TLR. Furthermore, if the Bank Holding Company itself deploys any portion of the Financial Assistance, the Bank Holding Company must submit a TLR.
| The TLR is not required for TA Recipients.
Uses of Award Report | The Recipient must submit the Uses of Award Report to the CDFI Fund in AMIS.
| If the recipient is a Bank Holding Company that deploys all or a portion of its Financial Assistance through its Subsidiary CDFI Insured Depository Institution, that Subsidiary CDFI Insured Depository Institution must also submit a Uses of Award Report. Furthermore, if the Bank Holding Company itself deploys any portion of the Financial Assistance, the Bank Holding Company must submit a Uses of Award Report.
Shareholders Report | If the Assistance is in the form of an Equity Investment, the Recipient must submit shareholder information to the CDFI Fund showing the class, series, number of shares and valuation of capital stock held or to be held by each shareholder. The Shareholder Report must be submitted for as long as the CDFI Fund is an equity holder. The Shareholders Report is submitted through AMIS.
Performance Progress Report | The Recipient must submit the Performance Progress Report through AMIS.
| If the Recipient is a Bank Holding Company that deploys all or a portion of its Financial Assistance through its Subsidiary CDFI Insured Depository Institution, that Subsidiary CDFI Insured Depository Institution must also submit a Performance Progress Report. Furthermore, if the Bank Holding Company itself deploys any portion of the Financial Assistance, the Bank Holding Company must submit a Performance Progress Report.
* Personally Identifiable Information (PII) is information, which if lost, compromised, or disclosed without authorization, could result in substantial harm, embarrassment, inconvenience, or unfairness to an individual. Although Applicants are required to enter addresses of individual borrowers/residents of Distressed Communities in AMIS, Applicants should not include the following PII for the individuals who received the financial products or services in AMIS or in the supporting documentation (i.e.—name of the individual, Social Security Number, driver's license or state identification number, passport number, Alien Registration Number, etc.). This information should be redacted from all supporting documentation.

Each Recipient is responsible for the timely and complete submission of the Annual Reporting Requirements. The CDFI Fund reserves the right to contact the Recipient and additional entities or signatories to the Assistance Agreement to request additional information and/or documentation. The CDFI Fund will use such information to monitor each Recipient's compliance with the requirements of the Assistance Agreement and to assess the impact of the CDFI Program. The CDFI Fund reserves the right, in its sole discretion, to modify these reporting requirements, including increasing the scope and frequency of reporting, if it determines it to be appropriate and necessary; however, such reporting requirements will be modified only after notice to Recipients.

2. Financial Management and Accounting: The CDFI Fund will require Recipients to maintain financial management and accounting systems that comply with Federal statutes, regulations, and the terms and conditions of the Federal award. These systems must be sufficient to permit the preparation of reports required by the CDFI Fund to ensure compliance with the terms and conditions of the CDFI Program, including the tracing of funds to a level of expenditures adequate to establish that such funds have been used in accordance with Federal statutes, regulations, and the terms and conditions of the Federal award.

The cost principles used by Recipients must be consistent with Federal cost principles and support the accumulation of costs as required by the principles, and must provide for adequate documentation to support costs charged to the CDFI Program award. In addition, the CDFI Fund will require Recipients to: Maintain effective internal controls; comply with applicable statutes, regulations, and the Assistance Agreement; evaluate and monitor compliance; take appropriate action when not in compliance; and safeguard personally identifiable information.

VII. Agency Contacts

A. The CDFI Fund will respond to questions concerning this NOFA and the Application between the hours of 9:00 a.m. and 5:00 p.m. Eastern Time, starting on the date that the NOFA is published through the date listed in Table 1 and Table 12. The CDFI Fund strongly recommends Applicants submit questions to the CDFI Fund via an AMIS service request to the CDFI Program, Office of Certification, Compliance Monitoring and Evaluation, or IT Help Desk. The CDFI Fund will post on its website responses to reoccurring questions received about the NOFA and Application. Other information regarding the CDFI Fund and its programs may be obtained from the CDFI Fund's website at http://www.cdfifund.gov. Table 20 lists CDFI Fund contact information:

Table 20—Contact Information
Type of question | Preferred method | Telephone No. (not toll free) | Email addresses
CDFI Program | Service Request via AMIS | 202-653-0421, option 1 | cdfihelp@cdfi.treas.gov
CCME | Service Request via AMIS | 202-653-0423 | ccme@cdfi.treas.gov
AMIS—IT Help Desk | Service Request via AMIS | 202-653-0422 | AMIS@cdfi.treas.gov

B. Information Technology Support: For IT assistance, the preferred method of contact is to submit a Service Request within AMIS. For the Service Request, select “Technical Issues” from the Program dropdown menu of the Service Request. People who have visual or mobility impairments that prevent them from using the CDFI Fund's website should call (202) 653-0422 for assistance (this is not a toll free number).

C. Communication with the CDFI Fund: The CDFI Fund will use the contact information in AMIS to communicate with Applicants and Recipients. It is imperative, therefore, that Applicants, Recipients, Subsidiaries, Affiliates, and signatories maintain accurate contact information in their accounts. This includes information such as contact names (especially for the Authorized Representative), email addresses, fax and phone numbers, and office locations.

D. Civil Rights and Diversity: Any person who is eligible to receive benefits or services from the CDFI Fund or Recipients under any of its programs is entitled to those benefits or services without being subject to prohibited discrimination. The Department of the Treasury's Office of Civil Rights and Diversity enforces various Federal statutes and regulations that prohibit discrimination in financially assisted and conducted programs and activities of the CDFI Fund. If a person believes that s/he has been subjected to discrimination and/or reprisal because of membership in a protected group, s/he may file a complaint with: Associate Chief Human Capital Officer, Office of Civil Rights, and Diversity, 1500 Pennsylvania Ave NW, Washington, DC 20220 or (202) 622-1160 (not a toll-free number).

E. Statutory and National Policy Requirements: The CDFI Fund will manage and administer the Federal award in a manner so as to ensure that Federal funding is expended and associated programs are implemented in full accordance with the U.S. Constitution, Federal Law, statutory, and public policy requirements: Including but not limited to, those protecting free speech, religious liberty, public welfare, the environment, and prohibiting discrimination.

VIII. Other Information

A. Paperwork Reduction Act: Under the Paperwork Reduction Act (44 U.S.C. chapter 35), an agency may not conduct or sponsor a collection of information, and an individual is not required to respond to a collection of information, unless it displays a valid OMB control number. If applicable, the CDFI Fund may inform Applicants that they do not need to provide certain Application information otherwise required. Pursuant to the Paperwork Reduction Act, the CDFI Program, and NACA Program Application has been assigned the following control number: 1559-0021, inclusive of PPC-FA, DF-FA, and HFFI-FA.

B. Application Information Sessions: The CDFI Fund may conduct webinars or host information sessions for organizations that are considering applying to, or are interested in learning about, the CDFI Fund's programs. For further information, visit the CDFI Fund's website at http://www.cdfifund.gov.

Authority: 12 U.S.C. 4701, et seq; 12 CFR parts 1805 and 1815; 2 CFR part 200.

Jodie L. Harris,
Director, Community Development Financial Institutions Fund.

[FR Doc. 2020-03440 Filed 2-20-20; 8:45 am]

BILLING CODE 4810-70-P